STATE JUSTICE INSTITUTE

Grant Guideline

AGENCY: State Justice Institute.

ACTION: Final Grant Guideline.

SUMMARY: This Guideline sets forth the administrative, programmatic, and financial requirements attendant to Fiscal Year 2002 State Justice Institute grants, cooperative agreements, and contracts.

EFFECTIVE DATE: October 10, 2001.

FOR FURTHER INFORMATION CONTACT: David I. Tevelin, Executive Director, (703) 684-6100, ext. 214, dtevelin@statejustice.org, or Kathy Schwartz, Deputy Director, (703) 684-6100, ext. 215, kschwartz@statejustice.org, State Justice Institute, 1650 King St. (Suite 600), Alexandria, VA 22314.

SUPPLEMENTARY INFORMATION: Pursuant to the State Justice Institute Act of 1984, 42 U.S.C. 10701, et seq., as amended, the Institute is authorized to award grants, cooperative agreements, and contracts to State and local courts, nonprofit organizations, and others for the purpose of improving the quality of justice in the State courts of the United States. Complete information about the Institute and its grant program, including tutorials, forms, and instructions for all grant applications, can be found at http://www.statejustice.org.

Funds Available for Grants

The House of Representatives has approved a $6.835 million appropriation for SJI in FY 2002. The Senate approved a $6.225 million appropriation. A House-Senate conference this fall will establish the Institute's final appropriation.

Types of Grants Available and Funding Schedules

The SJI grant program is designed to be responsive to the most important needs of the State courts. To meet the full range of the courts' diverse needs, the Institute offers five different categories of grants. The types of grants available in FY 2002 and the funding cycles for each program are provided below:

Project Grants. These grants are awarded to support innovative education, research, demonstration, and technical assistance projects that can improve the administration of justice in State courts nationwide. Except for “Single Jurisdiction” project grants awarded under section II.D. (see below), project grants are intended to support innovative projects of national significance. As provided in section V.C.1. of the Guideline, project grants may ordinarily not exceed $200,000 a year; however, grants in excess of $150,000 are likely to be rare, and awarded only to support projects likely to have a significant national impact.

SJI also awards “think piece” project grants to support the development of essays of publishable quality that explore emerging issues that could result in significant changes in judicial administration. “Think pieces” are limited to no more than $10,000. See section II.C.

Section II.D. reserves up to $300,000 for Projects Addressing a Critical Need of a Single State or Local Jurisdiction (“Single Jurisdiction Grants”). To receive a grant under this program, an applicant must demonstrate that (1) the proposed project is essential to meeting a critical need of the jurisdiction and (2) the need cannot be met solely with State and local resources within the foreseeable future. See sections II.D.1. and 2., and VII.A. for Single Jurisdiction Grant application procedures.

To obtain any type of project grant, applicants must submit a concept paper (see section VI.) and, if invited, an application (see section VII.). As indicated in Section VI.C.1., the Board may make an “accelerated” grant of less than $40,000 on the basis of the concept paper alone when the need for the project is clear and little additional information about the operation of the project would be provided in an application.

The FY 2002 mailing deadline for project grant concept papers is November 21, 2001. Papers must be postmarked or bear other evidence of submission by that date. The Board of Directors will meet in early March 2002 to invite formal applications based on the most promising concept papers. Applications must be sent by May 8, 2002 and awards will be approved by the Board in late July. See section VII.A. for Project Grant application procedures.

Technical Assistance Grants. Section II.E. reserves up to $400,000 for Technical Assistance Grants. Under this program, a State or local court may receive a grant of up to $30,000 to engage outside experts to provide technical assistance to diagnose, develop, and implement a response to a jurisdiction's problems.

Letters of application for a Technical Assistance grant may be submitted at any time. Applicants submitting letters between October 1, 2001 and January 11, 2002 will be notified of the Board's decision by March 29, 2002; those submitting letters between January 14 and March 8, 2002 will be notified by May 31, 2002; those submitting letters between March 11 and June 7, 2002 will be notified by August 23, 2002; and those submitting letters between June 10 and September 27, 2002 will be notified of the Board's decision by December 6, 2002. See section VII.D. for Technical Assistance Grant application procedures.

Judicial Branch Education Technical Assistance Grants. The Judicial Branch Education Technical Assistance (JBE TA) grant program offers grants of up to $20,000 to: (1) enable a State or local court to adapt and deliver an education program that was previously developed and evaluated under an SJI project grant (i.e., curriculum adaptation); and/or (2) support expert consultation in planning, developing, and administering State judicial branch education programs.

The services available through the JBE TA program include consultant assistance in developing systematic or innovative judicial branch education programming, or development of improved methods for assessing the need for, or evaluating, judicial branch education programs. Letters requesting Judicial Branch Education Technical Assistance grants may be submitted at any time throughout the year.

Scholarships. The Guideline allocates up to $200,000 of FY 2002 funds for scholarships to enable judges and court managers to attend out-of-State education and training programs.

Scholarships for eligible applicants are approved largely on a “first come, first served” basis, although the Institute may approve or disapprove scholarship requests in order to achieve appropriate balances on the basis of geography, program provider, and type of court or applicant (e.g., trial judge, appellate judge, trial court administrator). Scholarships will be approved only for programs that either (1) address topics included in the Guideline's Special Interest categories (section II.B.); (2) enhance the skills of judges and court managers; or (3) are part of a graduate program for judges or court personnel.

Applicants interested in obtaining a scholarship for a program beginning between January 2 and March 31, 2002 must submit their applications and any required accompanying documents between October 1 and December 3, 2001. For programs beginning between April 1 and June 30, 2002, the applications and documents must be submitted between January 4 and March 4, 2002. For programs beginning between July 1 and September 30, 2002, the applications and documents must be submitted between April 1 and June 3, 2002. For programs beginning between October 1 and December 31, 2002, the applications and documents must be submitted between July 5 and August 30, 2002. For programs beginning between January 1 and March 31, 2003, the applications and documents must be submitted between October 1 and December 2, 2002. See section VII.F for Scholarship application procedures.

Continuation and Ongoing Support Grants. Continuation grants are intended to enhance the specific program or service begun during the initial grant period (see sections III.F, V.B.2., and VII.B.). Ongoing support grants may be awarded for up to a three-year period to support national-scope projects that provide the State courts with critically needed services, programs, or products (see sections III.Q., V.B.3., and VII.C.).

The Guideline establishes a target for continuation and ongoing support grants of approximately 25% of the total amount projected to be available for grants in FY 2002. See section V.B.

An applicant for a continuation or ongoing support grant must submit a letter notifying the Institute of its intent to seek such funding, no later than 120 days before the end of the current grant period. The Institute will then notify the applicant of the deadline for its renewal grant application.

Special Interest Categories

The Guideline includes nine Special Interest categories, i.e., those project areas that the Board has identified as being of particular importance to State courts this year. The selection of these categories was based on the Board and staff's experience and observations over the past year; the recommendations received from judges, court managers, lawyers, members of the public, and other groups interested in the administration of justice; and the issues identified in recent years' concept papers and applications.

Section II.B.2. of the Guideline includes the following Special Interest categories:

Improving Public Confidence in the Courts;

Education and Training for Judges and Other Key Court Personnel;

Dispute Resolution and the Courts;

Application of Technology;

Enhancing Court Management Through Collaboration;

Substance Abuse and the Courts;

Children and Families in Court;

Improving the Courts' Response to Gender-Related Violent Crime; and

The Relationship Between State and Federal Courts.

The Institute also wishes to highlight its interest in supporting a National Symposium on the Role of the Judge in the 21st Century that would examine how evolving demands, responsibilities, and expectations are changing the role of State judges and State courts in American society. The Board of Directors contemplates a multidisciplinary, interactive forum that would help better define public and political expectations of the judiciary, as well as judges' own expectations; identify the barriers to fulfillment of those expectations; and propose ways to overcome those barriers. See section II.B.2.(b)(4).

Comments

On the basis of comments received on the Proposed Guideline published in the August 23 Federal Register (66 FR 44443), the Institute has made several changes in the Final Guideline.

Three special interest categories—Education and Training for Judges and Other Key Court Personnel (section II.B.2.b.), Application of Technology (section II.B.2.d.), and Enhancing Court Management Through Collaboration (section II.B.2.e.)—have been amended to note the Institute's interest in promoting court security and effective disaster recovery efforts.

The Dispute Resolution and the Courts special interest category (section II.B.2.c.) has been amended to note the Institute's interest in eliminating bias in court-connected dispute resolution programs on the basis of disability as well as on the basis of race, ethnicity, and gender.

The Final Guideline also includes the Judicial Branch Education Technical Assistance (JBE TA) grant program highlighted for public comment in the Proposed Guideline. See section II.B.2.b.2.

Recommendations to Grantwriters

Recommendations to Grantwriters may be found in Appendix A.

The following Grant Guideline is adopted by the State Justice Institute for FY 2002:

Table of Contents

I. The Mission of the State Justice Institute

II. Scope of the Program

III. Definitions

IV. Eligibility for Award

V. Types of Projects and Grants; Size of Awards

VI. Concept Papers

VII. Applications

VIII. Application Review Procedures

IX. Compliance Requirements

X. Financial Requirements

XI. Grant Adjustments

Appendix A Recommendations to Grant Writers

Appendix B Questions Frequently Asked by Grantees

Appendix C List of State Contacts Regarding Administration of Institute Grants to State and Local Courts

Appendix D SJI Libraries: Designated Sites and Contacts

Appendix E Illustrative List of Technical Assistance Grants

Appendix F Illustrative List of Model Curricula

Appendix G State Justice Institute Scholarship Application Forms (Forms S1 and S2)

Appendix H Line-Item Budget Form (Form E)

Appendix I Certificate of State Approval Form (Form B)

I. The Mission of the State Justice Institute

The Institute was established by Pub. L. 98-620 to improve the administration of justice in the State courts of the United States. Incorporated in the State of Virginia as a private, nonprofit corporation, the Institute is charged, by statute, with the responsibility to:

A. Direct a national program of financial assistance designed to assure that each citizen of the United States is provided ready access to a fair and effective system of justice;

B. Foster coordination and cooperation with the Federal judiciary;

C. Promote recognition of the importance of the separation of powers doctrine to an independent judiciary; and

D. Encourage education for judges and support personnel of State court systems through national and State organizations, including universities.

To accomplish these broad objectives, the Institute is authorized to provide funds to State courts, national organizations which support and are supported by State courts, national judicial education organizations, and other organizations that can assist in improving the quality of justice in the State courts.

The Institute is supervised by an 11-member Board of Directors appointed by the President, by and with the consent of the Senate. The Board is statutorily composed of six judges, a State court administrator, and four members of the public, no more than two of whom can be of the same political party.

Through the award of grants, contracts, and cooperative agreements, the Institute is authorized to perform the following activities:

A. Support research, demonstrations, special projects, technical assistance, and training to improve the administration of justice in the State courts;

B. Provide for the preparation, publication, and dissemination of information regarding State judicial systems;

C. Participate in joint projects with Federal agencies and other private grantors;

D. Evaluate or provide for the evaluation of programs and projects funded by the Institute to determine their impact upon the quality of criminal, civil, and juvenile justice and the extent to which they have contributed to improving the quality of justice in the State courts;

E. Encourage and assist in furthering judicial education;

F. Encourage, assist, and serve in a consulting capacity to State and local justice system agencies in the development, maintenance, and coordination of criminal, civil, and juvenile justice programs and services; and

G. Be responsible for the certification of national programs that are intended to aid and improve State judicial systems.

II. Scope of the Program

During FY 2002, the Institute will consider applications for funding support that address any of the areas specified in its enabling legislation. The Board, however, has designated nine program categories as being of special interest. See section II.B.

A. Authorized Program Areas

The Institute is authorized to fund projects addressing one or more of the following program areas listed in the State Justice Institute Act, the Battered Women's Testimony Act, the Judicial Training and Research for Child Custody Litigation Act, and the International Parental Kidnapping Crime Act:

1. Assistance to State and local court systems in establishing appropriate procedures for the selection and removal of judges and other court personnel and in determining appropriate levels of compensation;

2. Education and training programs for judges and other court personnel for the performance of their general duties and for specialized functions, and national and regional conferences and seminars for the dissemination of information on new developments and innovative techniques;

3. Research on alternative means for using judicial and nonjudicial personnel in court decisionmaking activities, implementation of demonstration programs to test such innovative approaches, and evaluations of their effectiveness;

4. Studies of the appropriateness and efficacy of court organizations and financing structures in particular States, and support to States to implement plans for improved court organization and financing;

5. Support for State court planning and budgeting staffs and the provision of technical assistance in resource allocation and service forecasting techniques;

6. Studies of the adequacy of court management systems in State and local courts, and implementation and evaluation of innovative responses to records management, data processing, court personnel management, reporting and transcription of court proceedings, and juror utilization and management;

7. Collection and compilation of statistical data and other information on the work of the courts and on the work of other agencies which relates to and affects the work of courts;

8. Studies of the causes of trial and appellate court delay in resolving cases, and establishing and evaluating experimental programs for reducing case processing time;

9. Development and testing of methods for measuring the performance of judges and courts, and experiments in the use of such measures to improve the functioning of judges and the courts;

10. Studies of court rules and procedures, discovery devices, and evidentiary standards to identify problems with the operation of such rules, procedures, devices, and standards, and the development of alternative approaches to better reconcile the requirements of due process with the need for swift and certain justice, and testing of the utility of those alternative approaches;

11. Studies of the outcomes of cases in selected areas to identify instances in which the substance of justice meted out by the courts diverges from public expectations of fairness, consistency, or equity, and the development, testing, and evaluation of alternative approaches to resolving cases in such problem areas;

12. Support for programs to increase court responsiveness to the needs of citizens through citizen education, improvement of court treatment of witnesses, victims, and jurors, and development of procedures for obtaining and using measures of public satisfaction with court processes to improve court performance;

13. Testing and evaluating experimental approaches to provide increased citizen access to justice, including processes which reduce the cost of litigating common grievances, and alternative techniques and mechanisms for resolving disputes between citizens;

14. Collection and analysis of information regarding the admissibility and quality of expert testimony on the experiences of battered women offered as part of the defense in criminal cases under State law, as well as sources of and methods to obtain funds to pay costs incurred to provide such testimony, particularly in cases involving indigent women defendants;

15. Development of training materials to assist battered women, operators of domestic violence shelters, battered women's advocates, and attorneys to use expert testimony on the experiences of battered women in appropriate cases, and individuals with expertise in the experiences of battered women to develop skills appropriate to providing such testimony;

16. Research regarding State judicial decisions relating to child custody litigation involving domestic violence;

17. Development of training curricula to assist State courts to develop an understanding of and appropriate responses to child custody litigation involving domestic violence and child sexual assault;

18. Dissemination of information and training materials and provision of technical assistance regarding the issues listed in paragraphs 14-17 above;

19. Development of national, regional, and in-State training and educational programs dealing with criminal and civil aspects of interstate and international parental child abduction; and

20. Other programs, consistent with the purposes of the State Justice Institute Act, as may be deemed appropriate by the Institute, including projects dealing with the relationship between Federal and State court systems, such as where there is concurrent State-Federal jurisdiction and where Federal courts, directly or indirectly, review State court proceedings.

Funds will not be made available for the ordinary, routine operation of court systems or programs in any of these areas.

B. Special Interest Program Categories

1. General Description

The Institute is interested in funding both innovative programs and programs of proven merit that can be replicated in other jurisdictions. The Institute is especially interested in funding projects that:

a. Formulate new procedures and techniques, or creatively enhance existing arrangements to improve the courts;

b. Address aspects of the State judicial systems that are in special need of serious attention;

c. Have national significance by developing products, services, and techniques that may be used in other States; and

d. Create and disseminate products that effectively transfer the information and ideas developed to relevant audiences in State and local judicial systems, or provide technical assistance to facilitate the adaptation of effective programs and procedures in other State and local jurisdictions.

A project will be identified as a Special Interest project if it meets the four criteria set forth above and (1) it falls within the scope of the Special Interest program areas designated below; or (2) information coming to the attention of the Institute from the State courts, their affiliated organizations, the research literature, or other sources demonstrates that the project responds to another special need or interest of the State courts.

Concept papers and applications which address a Special Interest category will be accorded a preference in the rating process. (See the selection criteria listed in sections VI.C.2. and VIII.B.)

2. Specific Categories

The Board has designated the areas set forth below as Special Interest program categories. The order of listing does not imply any ordering of priorities among the categories. For a complete list of projects supported in previous years in each of these categories, please visit the Institute's Internet homepage at http://www.statejustice.org/ and click on Grants by Category.

a. Improving Public Confidence in the Courts

This category includes demonstration, evaluation, research, and education projects designed to improve the responsiveness of courts to public concerns regarding the fairness, accessibility, timeliness, and comprehensibility of the court process, and test innovative methods for increasing the public's trust and confidence in the State courts.

The Institute is particularly interested in supporting innovative projects that:

• Develop national strategies to promote the progress of State court task forces and other court-sponsored programs to eliminate race and ethnic bias in the courts; implement task force recommendations at the State and local level; evaluate the impact of court strategies to address racial and ethnic bias in jurisdictions in which task force recommendations have been implemented; establish mentoring relationships with States that have successfully implemented recommendations to learn from their experiences; develop products that highlight effective model programs and promising practices; and educate judges and court personnel about relevant products developed in different States (e.g., model judicial education curricula, bench books, court conduct handbooks, codes of ethics, and relevant legislation);

• Test and evaluate approaches designed to enhance public access to the courts, including demonstrations of innovative collaborative efforts between courts and community institutions (e.g., bar associations, legal service agencies, schools and public libraries) to enhance access to the courts by people without lawyers, those who are not computer-literate, and people for whom it would be a hardship to travel to a courthouse (in this regard, however, Institute funds may not be used to directly or indirectly support legal representation of individuals in specific cases);

• Develop and test a range of strategies, methodologies, and outcome measures to evaluate the effectiveness of programs established to assist people without lawyers;

• Demonstrate and evaluate restorative justice approaches that involve the community, victim, and offender in restoring the relationship of the offender to the community while ensuring public safety;

• Explore the impact of private judging on public confidence in the courts, including an examination of whether it diverts certain types of cases from the courts, and a comparison of the time and costs to parties who choose private judging with those of parties who go through the traditional court process;

• Evaluate long-term court-based programs that actively involve citizen volunteers in a range of roles, and compile information on promising practices with respect to the effective use of volunteers in the court environment;

• Educate and clearly communicate information to litigants and the public about judicial decisions, the trial and appellate court process, alternative dispute resolution, court operations, and the standards courts maintain with respect to timeliness, access, and the elimination of bias;

• Assure that judges and court employees meet the highest ethical standards and that judicial disciplinary procedures are known, fair, and effective; and

• Compile and disseminate information about practices being used by courts around the country that show the promise of enhancing public trust and confidence in the justice system.

Applicants should be aware that the Institute will not support new surveys to determine the sources of the public's dissatisfaction with the courts.

b. Education and Training for Judges and Other Key Court Personnel

The Institute is interested in supporting an array of projects that will continue to strengthen and broaden the availability of court education programs at the State, regional, and national levels. This category is divided into four subsections: (1) Innovative Educational Programs; (2) Judicial Branch Education Technical Assistance Projects; (3) Scholarships; and (4) National Conferences.

(1) Innovative Educational Programs. This category includes support for the development and pilot-testing of innovative, high-quality educational programs for trial and appellate judges or court personnel that address key issues of concern to the nation's courts, or help local courts or State court systems develop or enhance their capacity to deliver quality continuing education.

Programs may be designed for presentation at the local, State, regional, or national level. Ordinarily, court education programs should be based on an assessment of the needs of the target audience; include clearly stated learning objectives that delineate the new knowledge or skills participants will acquire (as opposed to a description of what will be taught); incorporate adult education principles and multiple teaching/learning methods; and result in the development of a curriculum as defined in section III.G.

(a) The Institute is particularly interested in supporting the development of education programs that:

• Educate State court judges, law clerks, and staff counsel about capital case law, DNA evidence, and other legal and scientific issues related to the trial and appeal of capital cases;

• Educate State court judges and court personnel about special problems related to the adjudication of capital cases, including jury voir dire, jury sequestration, sentencing hearings, court security, and media management;

• Examine the concepts of restorative justice and their implications for the courts, including (but not limited to) the involvement of the community, victim, and offender in restoring the relationship of the offender to the community while ensuring public safety;

• Acquaint judges with the symptoms of mental illnesses (i.e., depression, manic depression, schizophrenia, anxiety disorders, and obsessive-compulsive disorder) that can lead to serious behavioral problems that repeatedly bring families or offenders to court, and explore meaningful sanctions and referrals to treatment that can prevent future crime and delinquency;

• Develop and test orientation programs for new judges that emphasize the leadership, team-building, and collaboration skills required to preside effectively in problem-solving courts;

• Promote the value of and develop the specific skills needed for intergovernmental team-building, collaboration, and planning among the judicial, executive, and legislative branches of government, or courts within a metropolitan area or multi-State region;

• Assist judges, court managers, community leaders, and other State or local government agency administrators in collaboratively developing and evaluating courthouse security policies and programs, and disaster recovery plans;

• Address adolescent and youth development, including the role and impact of youth culture (cults and gangs), and the impact that exposure to violence at home, in school, and in the community has on children, and that include materials for appellate, trial, and juvenile and family court judges;

• Assist local courts, State court systems, and court systems in a geographic region to develop or enhance a comprehensive program of continuing education, training, and career development for judges and court personnel as an integral part of court operations;

• Develop and test curricula and materials designed to familiarize judges and court managers with the need for and key elements of effective assistance programs for people without lawyers, and the resources required to sustain them;

• Develop and test curricula for judges on the full range of court-connected alternative dispute resolution approaches and the appropriate context for each of them;

• Test the effectiveness of including a variety of experiential instructional approaches in judicial branch education programs, such as field studies and interchanges with community programs, organizations, and institutions;

• Include innovative self-directed learning packages for use by appellate, trial, juvenile and family court judges and personnel, and distance-learning approaches for these audiences to assist those who do not have ready access to classroom-centered programs. These packages and approaches should include the appropriate use of various media and technologies such as Internet-based programming, interactive CD-ROM or computer disk-based programs, videos, or other audio and visual media, supported by written materials or manuals. They also should include a meaningful program evaluation and a self-evaluation process that assesses pre- and post-program knowledge and skills;

• Familiarize faculty with the effective use of innovative instructional technology, including methods for presenting information through web-based and other distance-learning approaches such as videos and satellite teleconferences;

• Develop and test innovative methods to evaluate the effectiveness of web-based and distance education programs; and

• Develop and test innovative short (one-half or one full day) educational programs on events or issues of critical importance to local courts or courts in a particular region.

(b) The Institute also continues to be very interested in supporting projects that would implement action plans and strategies developed by the State teams at the National Symposium on the Future of Judicial Branch Education held in St. Louis, Missouri, on October 7-9, 1999, as well as proposals from other applicants designed to assist in implementing and disseminating the findings and strategies discussed at the Conference.

(2) Judicial Branch Education Technical Assistance Projects. The Board is reserving up to $200,000 to support technical assistance and on-site consultation in planning, developing, and administering comprehensive and specialized State judicial branch education programs, as well as the adaptation of model curricula previously developed with SJI funds.

The goals of the Judicial Branch Education Technical Assistance Program (JBE TA) are to:

(a) Provide State and local courts with expert assistance in developing systematic or innovative judicial branch education programming as well as improved methods for assessing the need for and evaluating the impact of court education programs; and

(b) Enable courts to modify a model curriculum, course module, or conference program developed with SJI funds to meet a particular State's or local jurisdiction's educational needs; train instructors to present portions or all of the curriculum; and pilot-test it to determine its appropriateness, quality, and effectiveness. An illustrative but non-inclusive list of the curricula that may be appropriate for adaptation is contained in Appendix F.

Only State or local courts may apply for JBETA funding. Application procedures may be found in Section VII.E.

(3) Scholarships for Judges and Court Managers. The Institute is reserving up to $200,000 to support a scholarship program for State judges and court managers. The purposes of the scholarship program are to:

• Enhance the skills, knowledge, and abilities of judges and court managers;

• Enable State court judges and court managers to attend out-of-State educational programs sponsored by national and State providers that they could not otherwise attend because of limited State, local, and personal budgets; and

• Provide States, judicial educators, and the Institute with evaluative information on a range of judicial and court-related education programs.

Scholarships will be granted to individuals only for the purpose of attending an out-of-State educational program within the United States. Application procedures may be found in Section VII.F.

(4) National Conferences. The Institute is interested in supporting a National Symposium on the Role of the Judge in the 21st Century to examine how evolving demands, responsibilities, and expectations are changing the role of State judges and State courts in American society. The Board of Directors contemplates a multidisciplinary, interactive forum that would help better define public and political expectations of the judiciary, as well as judges' own expectations; identify the barriers to fulfillment of those expectations; and propose ways to overcome those barriers.

The Symposium should address the following issues, among others:

• The extent to which courts should be the source of social services to parties in litigation, the approaches by which those services can best be provided, and the criteria for determining when and which services should be provided;

• The potential evolution of the court into a service provider, problem solver, or source of dispute resolution services for the public generally, not just parties in litigation;

• The role of judges and the courts as leaders in cultivating and sustaining community and restorative approaches to justice;

• The participation of judges and court staff in intergovernmental, public-private, and court-community partnerships aimed at addressing issues such as family violence, drug abuse, and child abuse and neglect;

• The role of judges and court personnel in advocacy projects, including not only projects aimed at improving the administration of justice, but projects seeking to improve society's response to other issues, outside the courts;

• The potential impact of increased involvement in the community on judicial neutrality;

• Ethical constraints that may affect judges and court personnel when they consider whether and how to meet their evolving demands, responsibilities, and expectations; and

• The extent to which the changing role of judges and courts may impinge on the authority of the executive and legislative branches of government.

c. Dispute Resolution and the Courts.

This category includes research, evaluation, and demonstration projects to evaluate or enhance the effectiveness of court-connected dispute resolution programs. The Institute is interested in projects that facilitate comparison among research studies by using similar measures and definitions; address the nature and operation of ADR programs within the context of the court system as a whole; and compare dispute resolution processes to attorney settlement as well as trial. Specific topics of interest include:

• Examining the timing for referrals to dispute resolution services, and the effect of different referral methods on case outcomes and time to disposition;

• Evaluating innovative court-connected dispute resolution programs for resolving complex and multi-party litigation, environmental hazards, managed health care, minor criminal cases, probate proceedings, and land-use disputes;

• Evaluating innovative alternative dispute resolution processes, including on-line approaches that use the Internet and other computer-based technologies to facilitate dispute resolution;

• Developing methods to eliminate bias on the basis of race, ethnicity, disability, or gender in court-connected dispute resolution programs, testing approaches for assuring that such programs are open to all members of the community served by the court, and assessing whether having a mediator pool that reflects the diversity of the community it serves has an impact on the use of mediation and its effectiveness; and

• Testing innovative approaches involving community partnerships, particularly in the context of restorative justice, examining the benefits such partnerships offer in ensuring the quality of dispute resolution programs, and compiling examples of promising practices.

Applicants should be aware that the Institute will not provide operational support for ongoing ADR programs or start-up costs of non-innovative ADR programs. Courts also should be advised that it is preferable for an applicant to use its own funds to support the operational costs of an innovative program and request Institute funds to support related technical assistance, training, and evaluation elements of the program.

d. Application of Technology

This category includes the testing of innovative applications of technology to improve the operation of court management systems and judicial practices at both the trial and appellate court levels. The Institute seeks to support local experiments with promising but untested applications of technology in the courts that include an evaluation of the impact of the technology in terms of costs, benefits, and staff workload, and a training component to assure that staff is appropriately educated about the purpose and use of the new technology. In this context, “untested” includes novel applications of technology developed for the private sector that have not previously been applied in the courts.

The Institute is particularly interested in supporting efforts to test and evaluate technologies that, if successfully implemented, would significantly re-engineer the way that courts currently do business, including projects that would:

• Demonstrate and evaluate the delivery of technology to rural courts through an Internet-based “application service provider” approach;

• Test and evaluate the use of Geographic Information System (GIS) software as a means of examining and improving courts' outreach to particular segments of the communities they serve;

• Evaluate approaches for electronically filing pleadings, briefs, and other documents; approaches to integrate electronic filing and electronic document management; and the impact of electronic court record systems on case management and court procedures;

• Demonstrate and evaluate innovative applications of voice recognition technologies in the adjudication process;

• Demonstrate and evaluate the use of expert system technology to assist judicial decision-making;

• Demonstrate and evaluate the use of videoconferencing technology to present testimony by witnesses in remote locations, and appellate arguments (but see the limitations specified below);

• Test and evaluate the effectiveness of automated systems that would enable courts and other justice agencies to measure their performance with respect to internal processes and customer service against benchmarks and strategic goals; and

• Evaluate innovative applications of technology designed to ensure the safety of all who use and work in the courts.

Ordinarily, the Institute will not provide support for the purchase of equipment or software to implement a technology that is commonly used by courts, such as videoconferencing between courts and jails, optical imaging for record-keeping, metal detectors, and automated management information systems. (See also section X.I.2.b. regarding other limits on the use of grant funds to purchase equipment and software.)

e. Enhancing Court Management Through Collaboration

The Institute is interested in supporting projects that test innovative and collaborative problem-solving approaches for securing, managing, and demonstrating the effective use of the resources required to meet the responsibilities of the judicial branch, including the institutionalization of long-range planning processes. In particular, the Institute is interested in demonstration, evaluation, education, research, and technical assistance projects to:

• Facilitate collaboration, communication, information-sharing, and coordination between the juvenile and criminal courts, between courts and criminal justice agencies, and between courts and court users;

• Identify and assess the effects of collaborative problem-solving approaches designed to assure quality services to court users;

• Strengthen judge and court manager skills in leadership, collaborative planning, case management, facilitation, and human resource development;

• Assess the effects of innovative management approaches designed to assure quality services to court users;

• Enhance the core competencies required of court managers and staff;

• Document and evaluate effective intergovernmental team-building, collaboration, and planning among the judicial, executive, and legislative branches of government, or courts within a metropolitan area or multi-State region;

• Enhance collaboration between the courts, community service providers, and other governmental agencies in the development of courthouse security policies and programs and disaster recovery plans;

• Facilitate, demonstrate, and assess the effective use of judge-staff teams for implementing change and encouraging excellence in court operations; and

• Compile examples of promising practices involving any of the management approaches described above.

f. Substance Abuse

This category includes education, technical assistance, research, and evaluation projects to assist courts in handling a large volume of substance abuse-related criminal, civil, juvenile, and domestic relations cases fairly and expeditiously. (It does not include providing support for planning, establishing, operating, or enhancing a local drug court. Applicants interested in obtaining grants to implement, operate, or enhance a drug court program should contact the Drug Court Program Office, Office of Justice Programs, U.S. Department of Justice.)

• The Institute is particularly interested in projects that would:

• Identify and test innovative methods to provide appropriate case docketing, drug treatment, and services for juveniles transferred to adult criminal court so that they are dealt with as adolescents, document promising practices in this area, and evaluate the outcomes of such cases, including recidivism;

• Evaluate the effectiveness of “family drug court” programs (i.e., specialized calendars that provide intensely supervised, court-enforced substance abuse treatment and other services to families involved in child neglect, child abuse, domestic violence, or other family cases);

• Evaluate the effectiveness of court-mandated substance abuse treatment provided to all criminal defendants (not just those appearing in drug courts);

• Educate judges and court managers about the long-term cognitive effects of substance abuse (including alcohol) and their implications for compliance with court orders, probation conditions, release, visitation orders, etc.; and

• Evaluate the effectiveness of innovative procedures to manage persistent misdemeanants who are substance abusers, and procedures designed to monitor probationers who have chronic substance abuse problems.

g. Children and Families in Court

This category includes education, demonstration, evaluation, technical assistance, and research projects to identify and inform judges of innovative, effective approaches for handling cases involving children and families. The Institute is particularly interested in projects that would:

• Develop and test guidelines, curricula, and other materials for judges that address the implications of sentencing juveniles as adults, including the need for age-appropriate services like schooling, sentencing alternatives, and pre-trial services;

• Demonstrate and evaluate the effectiveness of a “one social worker/one family” or judge-social worker team approach to handling child abuse and neglect cases;

• Develop and test collaborative approaches involving community agencies and members of the public to improve services to families involved with the courts;

• Develop and test innovative protocols, procedures, educational programs, and other measures to address the service needs of children exposed to family violence and the methods for mitigating those effects when issuing protection, custody, visitation, or other orders;

• Develop guidelines and materials to assist judges and other court officers and personnel in critically analyzing psychological evaluations of children and the credibility of clinical experts, their reports, and methods of evaluating children;

• Compile and distribute information about innovative and successful approaches to sentencing and treatment alternatives for serious youthful offenders;

• Develop and test restorative justice approaches that include victims of offenses committed by youthful offenders in the juvenile court process (other than victim-offender mediation programs);

• Create and test educational programs, guidelines, and monitoring systems to assure that the juvenile justice system meets the needs of girls and children of color;

• Develop and test innovative techniques for enhancing collaboration, communication, information-sharing, and coordination of juvenile and criminal courts and divisions;

• Design or evaluate information systems that enable judges and court managers to manage their caseloads effectively, track placement and service delivery, and coordinate orders in different proceedings involving members of the same family; and

• Develop and test educational programs to assure that everyone coming into contact with courts serving children and families is treated with dignity, respect, and courtesy.

h. Improving the Courts' Response to Gender-Related Violent Crime

This category includes innovative education, demonstration, technical assistance, evaluation, and research projects to improve the fair and effective processing, consideration, and disposition of cases concerning gender-related violent crimes, including projects that would:

• Educate judges about the unique characteristics of juvenile sex offenders and the specialized array of age-appropriate services they require to control their abusive behavior;

• Evaluate the impact of court policies and procedures and collaborative community approaches designed to ensure that juvenile sex offenders have access to an appropriate array of services;

• Strengthen judges' skills in leadership, collaborative planning, and facilitation of community efforts to reduce and prevent domestic violence;

• Evaluate the implementation of the Uniform Interstate Enforcement of Domestic Violence Protection Orders Act;

• Train custody evaluators, guardians ad litem, and other independent professionals appearing in custody and visitation cases about domestic violence and the impact witnessing such violence has on children;

• Educate judges about how to interpret and evaluate evidence presented by psychologists, psychiatrists, and other professionals appearing in child custody and visitation cases involving domestic violence between the parents;

• Develop and test guidelines to assist judges in identifying issues and risks to the child(ren) and the battered parent when considering whether to order supervised vs. unsupervised visitation in custody cases involving domestic violence between the parents;

• Coordinate juvenile, family, and criminal court management of domestic violence cases;

• Evaluate the effectiveness of domestic violence courts (i.e., specialized calendars or divisions for considering domestic violence cases and related matters), including their impact on victims, offenders, and court operations;

• Develop guidelines, curricula, or other materials that address the appropriate role of probation in monitoring domestic violence offenders;

• Assess the effectiveness of including jurisdiction over family violence in a unified family court;

• Demonstrate effective ways to encourage collaboration among courts, criminal justice agencies, and social services programs in responding to domestic violence and gender-related crimes of violence, and to assure that the courts are fully accessible to victims of domestic violence and other gender-related violent crimes;

• Develop and evaluate educational programs addressing a collaborative community approach to reducing and preventing domestic violence for a multidisciplinary audience that includes judges, prosecutors, defense attorneys, victim advocates, doctors, and social services providers;

• Test the effectiveness of innovative sentencing and treatment approaches in cases involving domestic violence and other gender-related crimes, including sentences that incorporate regular or periodic judicial review or restorative justice measures;

• Implement recommendations or action plans addressing the co-occurrence of domestic violence and child maltreatment that stem from the conference on Domestic Violence and Child Maltreatment—co-sponsored by SJI, the Department of Health and Human Services, and the Ford Foundation—that was held September 29-30, 2000, in Jackson, Wyoming; and

• Compile and disseminate information about promising practices relating to any of the issues described in this section.

Institute funds may not be used to provide operational support to programs offering direct services or compensation to victims of crimes. (Applicants interested in obtaining such operational support should contact the Office for Victims of Crime [OVC], Office of Justice Programs, U.S. Department of Justice, or the agency in their State that awards OVC funds to State and local victim assistance and compensation programs.)

i. The Relationship Between State and Federal Courts

This category includes education, research, demonstration, and evaluation projects designed to facilitate appropriate and effective communication, cooperation, and coordination between State and Federal courts.

(1) The Institute is particularly interested in innovative projects that:

• Evaluate State and Federal courts' experiences with capital cases in order to identify the reasons for reversals of trial court convictions, barriers to timely disposition of capital cases, and steps that can be taken to minimize reversals and undue delay;

• Develop, disseminate, and educate judges about model jury instructions for capital cases;

• Hire law clerks and staff counsel with special expertise in capital case law; and

• Develop new mechanisms for addressing complaints about attorney competence and performance in capital cases.

(2) The Institute also is interested in projects to develop and test new approaches to:

• Coordinate and process mass tort cases fairly and efficiently at the trial and appellate levels;

• Share facilities, jury pools, alternative dispute resolution programs, information regarding persons on pretrial release or probation, and court services; and

• Disseminate information regarding effective methods being used at the trial court, State, and Circuit levels to coordinate cases and administrative activities, and share facilities.

C. Think Pieces

This category addresses the development of essays of publishable quality directed to the court community. The essays should explore emerging issues that could result in significant changes in court process or judicial administration and their implications for the future for judges, court managers, policy-makers, and the public. Grants supporting such projects are limited to no more than $10,000. Applicants should follow the procedures for concept papers requesting an accelerated award of a grant of less than $40,000, which are explained in Section VI.A.3.(b) of this Guideline.

Possible topics include, but are not limited to:

• The impact of the “digital divide” on pro se litigants who do not have access to computers, particularly as it relates to increasing electronic access to court documents and placing court services and processes on-line;

• The implications of increasing commerce via the Internet for the State courts, including the new rules and procedures that may be needed to address them;

• The implications of voice recognition and other identification technologies on the courts;

• An exploration of issues related to privacy, data security, and public access to court records in our increasingly technological society;

• The potential for the creation of “cybercourts” through the use of the Internet—a “courthouseless court” instead of a paperless court—and how the courts would have to be re-engineered to accommodate such a development;

• An in-depth articulation of the concept of knowledge management and its implications for the courts;

• The burgeoning needs of small and rural courts and examples of emerging technological advances that could diminish their sense of isolation;

• The likelihood that the courts will experience a major shift in the make-up of judicial branch personnel and shortages of qualified individuals in the next decade as a result of changing demographics and significantly higher salaries available in the private sector, and suggestions for ways to prevent or respond to this occurrence;

• A preliminary exploration of the prevalence of sexual assault in domestic violence cases and the implications for judges with respect to the questions they should ask, the services that should be provided to victims, and the sanctions that should be imposed on offenders;

• The impact of fee-structuring proposals and “attorney auctions” on controlling litigation costs in class-action lawsuits and ensuring that plaintiffs receive adequate counsel;

• The likelihood of the emergence of court-connected alternative dispute resolution processes in problem-solving courts and what these specialized courts may need to do to prepare for this change;

• The implications of generalized vs. specialized social services on children and families in court; and

• The potential use of local court advisory councils rooted in the community as a method of promoting public trust and confidence in the court.

D. Single Jurisdiction Projects

The Board will set aside up to $300,000 to support projects proposed by State or local courts that address the needs of only the applicant State or local jurisdiction. A project under this section may address any of the topics included in the Special Interest Categories or Statutory Program Areas, but it need not be innovative. The Board is particularly interested in supporting projects to replicate programs, procedures, or strategies that have been developed, demonstrated, or evaluated through an SJI grant. An evaluation component is not required if a grant is awarded to replicate another successful SJI project; however, grants to support replications are subject to the same limits on amount and duration as other project grants. (See section V.) Ordinarily, the Institute will not provide support solely for the purchase of equipment or software.

Concept papers for single jurisdiction projects may be submitted by a State court system, an appellate court, or a limited or general jurisdiction trial court. All awards under this category are subject to the matching requirements set forth in sections III.P. and IX.A.8.a.

The application procedures for Single Jurisdiction grants are the same as the procedures for Project Grants (see section VII.A); however, in addition to the information presented in the program narrative, Single Jurisdiction grant applicants must also demonstrate that:

1. The proposed project is essential to meeting a critical need of the jurisdiction; and

2. The need cannot be met solely with State and local resources within the foreseeable future.

E. Technical Assistance Grants

The Board will set aside up to $400,000 to support the provision of technical assistance to State and local courts. The program is designed to provide State and local courts with sufficient support to obtain technical assistance to diagnose a problem, develop a response to that problem, and implement any needed changes. The Institute will reserve sufficient funds each quarter to assure the availability of technical assistance grants throughout the year.

Technical Assistance grants are limited to no more than $30,000 each, and may cover the cost of obtaining the services of expert consultants; travel by a team of officials from one court to examine a practice, program, or facility in another jurisdiction that the applicant court is interested in replicating; or both. Technical assistance grant funds ordinarily may not be used to support production of a videotape. Normally, the technical assistance must be completed within 12 months after the start date of the grant.

Only a State or local court may apply for a Technical Assistance grant. The application procedures may be found in section VII.D.

III. Definitions

The following definitions apply for the purposes of this Guideline:

A. Accelerated Award

A grant of up to $40,000 awarded on the basis of a concept paper (including a budget and budget narrative) when the need for and benefits of the proposed project are clear and an application would not be needed to provide additional information about the project's methodology and budget. See section VI.C.1. for more information about accelerated awards.

B. Acknowledgment of SJI Support

The prominent display of the SJI logo on the front cover of a written product or in the opening frames of a videotape developed with Institute support, and inclusion of a brief statement on the inside front cover or title page of the document or the opening frames of the videotape identifying the grant number. See section IX.A.11.a.(2) for the precise wording of the statement.

C. Application

A formal request for an Institute grant that is invited by the Board of Directors after approval of a concept paper. A complete application consists of: Form A—Application; Form B—Certificate of State Approval (for applications from local trial or appellate courts or agencies—see Appendix I); Form C—Project Budget/Tabular Format or Form C1—Project Budget/Spreadsheet Format; Form D—Assurances; Disclosure of Lobbying Activities; a detailed 25-page description of the need for the project and all related tasks, including the time frame for completion of each task, and staffing requirements; and a detailed budget narrative that provides the basis for all costs. See section VII. for a complete description of application submission requirements.

D. Close-out

The process by which the Institute determines that all applicable administrative and financial actions and all required grant work have been completed by both the grantee and the Institute.

E. Concept Paper

A proposal of no more than eight double-spaced pages that outlines the nature and scope of a project that would be supported with State Justice Institute funds, accompanied by a preliminary budget. See section VI. for a complete description of concept paper submission requirements.

F. Continuation Grant

A grant lasting no longer than 15 months to permit completion of activities initiated under an existing Institute grant or enhancement of the products or services produced during the prior grant period. See section VII.B. for a complete description of continuation application requirements.

G. Curriculum

The materials needed to replicate an education or training program developed with grant funds including, but not limited to: the learning objectives; the presentation methods; a sample agenda or schedule; an outline of presentations and relevant instructors' notes; copies of overhead transparencies or other visual aids; exercises, case studies, hypotheticals, quizzes, and other materials for involving the participants; background materials for participants; evaluation forms; and suggestions for replicating the program, including possible faculty or the preferred qualifications or experience of those selected as faculty.

H. Curriculum Adaptation Grant

A grant of up to $20,000 to support an adaptation and pilot test of an educational program previously developed with SJI funds. See section III.O. defining judicial education branch technical assistance grants. See also section VII.E. for a complete description of judicial branch education technical assistance grant application requirements.

I. Designated Agency or Council

The office or judicial body which is authorized under State law or by delegation from the State Supreme Court to approve applications for SJI grant funds and to receive, administer, and be accountable for those funds.

J. Disclaimer

A brief statement that must be included at the beginning of a document or in the opening frames of a videotape produced with State Justice Institute funding that specifies that the points of view expressed in the document or tape do not necessarily represent the official position or policies of the Institute. See section IX.A.11.a.(2) for the precise wording of this statement.

K. Grant Adjustment

A change in the design or scope of a project from that described in the approved application, acknowledged in writing by the Institute. See section XI.A for a list of the types of changes requiring a formal grant adjustment. Ordinarily, changes requiring a Grant Adjustment (including budget reallocations between direct cost categories that individually or cumulatively exceed five percent of the approved original budget) should be requested at least 30 days in advance of the implementation of the requested change.

L. Grantee

The organization, entity, or individual to which an award of Institute funds is made. For a grant based on an application from a State or local court, grantee refers to the State Supreme Court or its designee.

M. Human Subjects

Individuals who are participants in an experimental procedure or who are asked to provide information about themselves, their attitudes, feelings, opinions, and/or experiences through an interview, questionnaire, or other data collection technique.

N. Institute

The State Justice Institute.

O. Judicial Branch Education Technical Assistance Grant

A grant of up to $20,000 awarded to a State or local court to support expert assistance in designing or delivering judicial branch education programming, and/or the adaptation of an education program based on an SJI-supported curriculum that was previously developed and evaluated under an SJI project grant.

P. Match

The portion of project costs not borne by the Institute. Courts or other units of State or local government (not including publicly supported institutions of higher education) must provide a match from private or public sources of not less than 50% of the total amount of the Institute's award. 42 U.S.C. 10705(d). Match includes both in-kind and cash contributions. Cash match is the direct outlay of funds by the grantee to support the project. In-kind match consists of contributions of time, services, space, supplies, etc., made to the project by the grantee or others (e.g., advisory board members) working directly on the project. Under normal circumstances, allowable match may be incurred only during the project period. When appropriate, and with the prior written permission of the Institute, match may be incurred from the date of the Board of Directors' approval of an award. Match does not include project-related income such as tuition or revenue from the sale of grant products, or the time of participants attending an education program. Amounts contributed as cash or in-kind match may not be recovered through the sale of grant products during or following the grant period.

Q. Ongoing Support Grant

A grant lasting 36 months to support a project that is national in scope and that provides the State courts with services, programs or products for which there is a continuing important need. See section VII.C. for a complete description of ongoing support application requirements.

R. Products

Tangible materials resulting from funded projects including, but not limited to: Curricula; monographs; reports; books; articles; manuals; handbooks; benchbooks; guidelines; videotapes; audiotapes; computer software; and CD-ROM disks.

S. Project Grant

An initial grant lasting up to 15 months to support an innovative education, research, demonstration, or technical assistance project that can improve the administration of justice in State courts nationwide. Ordinarily, a project grant may not exceed $200,000 a year; however, a grant in excess of $150,000 is likely to be rare and awarded only to support highly promising projects that will have a significant national impact. See section VII.A. for a complete description of project grant application requirements.

T. Project-Related Income

Interest, royalties, registration and tuition fees, proceeds from the sale of products, and other earnings generated as a result of a State Justice Institute grant. Project-related income may not be counted as match. For a more complete description of different types of project-related income, see section X.G.

U. Scholarship

A grant of up to $1,500 awarded to a judge or court employee to cover the cost of tuition for and transportation to and from an out-of-State educational program within the United States. See section VII.F. for a complete description of scholarship application requirements.

V. Single Jurisdiction Project Grant

A grant that addresses a critical but not necessarily innovative need of a single State or local jurisdiction that cannot be met solely with State and/or local resources within the foreseeable future. See section II.D. for a description of single jurisdiction projects and sections VI. and VII.A. for a complete description of single jurisdiction project application requirements.

W. Special Condition

A requirement attached to a grant award that is unique to a particular project.

X. State Supreme Court

The highest appellate court in a State, or, for the purposes of the Institute program, a constitutionally or legislatively established judicial council that acts in place of that court. In States having more than one court with final appellate authority, State Supreme Court means that court which also has administrative responsibility for the State's judicial system. State Supreme Court also includes the office of the court or council, if any, it designates to perform the functions described in this Guideline.

Y. Subgrantee

A State or local court which receives Institute funds through the State Supreme Court.

Z. Technical Assistance Grant

A grant, lasting up to 12 months, of up to $30,000 to a State or local court to support outside expert assistance in diagnosing a problem and developing and implementing a response to that problem. See section VII.D. for a complete description of technical assistance grant application requirements.

IV. Eligibility for Award

The Institute is authorized by Congress to award grants, cooperative agreements, and contracts to the following entities and types of organizations:

A. State and local courts and their agencies (42 U.S.C. 10705(b)(1)(A))

Each application for funding from a State or local court must be approved, consistent with State law, by the State's Supreme Court or its designated agency or council. The latter shall receive all Institute funds awarded to such courts and be responsible for assuring proper administration of Institute funds, in accordance with section X.C.2. of this Guideline. A list of persons to contact in each State regarding approval of applications from State and local courts and administration of Institute grants to those courts is contained in Appendix C.

B. National nonprofit organizations controlled by, operating in conjunction with, and serving the judicial branches of State governments (42 U.S.C. 10705 (b)(1)(B))

C. National nonprofit organizations for the education and training of judges and support personnel of the judicial branch of State governments (42 U.S.C. 10705(b)(1)(C))

An applicant is considered a national education and training applicant under section 10705(b)(1)(C) if:

1. the principal purpose or activity of the applicant is to provide education and training to State and local judges and court personnel; and

2. the applicant demonstrates a record of substantial experience in the field of judicial education and training.

D. Other eligible grant recipients (42 U.S.C. 10705(b)(2)(A)-(D))

1. Provided that the objectives of the project can be served better, the Institute is also authorized to make awards to:

a. Nonprofit organizations with expertise in judicial administration;

b. Institutions of higher education;

c. Individuals, partnerships, firms, corporations (for-profit organizations must waive their fees); and

d. Private agencies with expertise in judicial administration.

2. The Institute may also make awards to Federal, State or local agencies and institutions other than courts for services that cannot be adequately provided through nongovernmental arrangements (42 U.S.C. 10705(b)(3)).

E. Inter-agency Agreements

The Institute may enter into inter-agency agreements with Federal agencies (42 U.S.C. 10705(b)(4)) and private funders to support projects consistent with the purposes of the State Justice Institute Act.

V. Types of Projects and Grants; Size of Awards

A. Types of Projects

The Institute supports the following general types of projects:

1. Education and training;

2. Research and evaluation;

3. Demonstration; and

4. Technical assistance.

B. Types of Grants

The Institute supports the following types of grants:

1. Project Grants.

See sections II.B., C., and D.; VI.; and VII.A. The Institute places no annual limitations on the overall number of project grant awards or the number of awards in each special interest category.

2. Continuation Grants.

See sections III.F. and VII.B. In FY 2002, the Institute is allocating no more than 25% of available grant funds for continuation and ongoing support grants.

3. Ongoing Support Grants.

See sections III.Q. and VII.C. See Continuation Grants above for limitations on funding availability in FY 2002.

4. Technical Assistance Grants.

See section II.E. In FY 2002, the Institute is reserving up to $400,000 for these grants.

5. Judicial Branch Education Technical Assistance Grants.

See sections II.B.2.b.(2), III.H., III.O., and VII.E. In FY 2002, the Institute is reserving up to $200,000 for judicial branch education technical assistance grants, which includes adaptations of curricula previously developed with SJI funding.

6. Scholarships.

See section II.B.2.b.(3), III.U., and VII.F. In FY 2002, the Institute is reserving up to $200,000 for scholarships for judges and court employees. The Institute will reserve sufficient funds each quarter to assure the availability of scholarships throughout the year.

C. Maximum Size of Awards

1. Except as specified below, applicants for new project grants and continuation grants may request funding in amounts up to $200,000 for 15 months, although new and continuation awards in excess of $150,000 are likely to be rare and to be made, if at all, only for highly promising proposals that will have a significant impact nationally.

2. Applicants for ongoing support grants may request funding in amounts up to $600,000 over three years, although awards in excess of $450,000 are likely to be rare. The Institute will ordinarily release funds for the second and third years of ongoing support grants on the following conditions: (1) The project is performing satisfactorily; (2) appropriations are available to support the project that fiscal year; and (3) the Board of Directors determines that the project continues to fall within the Institute's priorities.

3. Applicants for technical assistance grants may request funding in amounts up to $30,000.

4. Applicants for judicial branch education technical assistance grants may request funding in amounts up to $20,000.

5. Applicants for scholarships may request funding in amounts up to $1,500.

D. Length of Grant Periods

1. Grant periods for all new and continuation projects ordinarily may not exceed 15 months.

2. Grant periods for ongoing support grants ordinarily may not exceed 36 months.

3. Grant periods for technical assistance grants and curriculum adaptation grants ordinarily may not exceed 12 months.

VI. Concept Papers

Concept papers are an extremely important part of the application process because they enable the Institute to learn the program areas of primary interest to the courts and to explore innovative ideas, without imposing heavy burdens on prospective applicants. The use of concept papers also permits the Institute to better project the nature and amount of grant awards. The concept paper requirement and the submission deadlines for concept papers and applications may be waived by the Executive Director for good cause (e.g., the proposed project could provide a significant benefit to the State courts or the opportunity to conduct the project did not arise until after the deadline). The On-Line Tutorials available on the Institute's web site (www.statejustice.org) walk potential applicants through the concept paper and application requirements for project grants.

A. Format and Content

All concept papers must include a cover sheet, a program narrative, and a preliminary budget.

1. The Cover Sheet

The cover sheet for all concept papers must contain:

a. A title that clearly describes the proposed project;

b. The name and address of the court, organization, or individual submitting the paper;

c. The name, title, address (if different from that in b.), and telephone number of a contact person who can provide further information about the paper;

d. The number of the statutory Program Area (see section II.A.) and the letter of the Special Interest Category (see section II.B.2.) that the proposed project addresses most directly; and

e. The estimated length of the proposed project.

Applicants requesting the Board to waive the application requirement and approve a grant of less than $40,000 based on the concept paper should add APPLICATION WAIVER REQUESTED to the information on the cover page.

2. The Program Narrative

The program narrative of a concept paper should be no longer than necessary, but must not exceed 8 double-spaced pages on 8½ by 11 inch paper. Margins must be at least 1 inch and type size must be at least 12 point and 12 cpi. The pages should be numbered. The narrative should describe:

a. Why is this project needed and how would it benefit State courts? If the project is to be conducted in a specific location(s), applicants should discuss the particular needs of the project site(s) to be addressed by the project, why those needs are not being met through the use of existing materials, programs, procedures, services, or other resources, and the benefits that would be realized by the proposed site(s).

If the project is not site-specific, applicants should discuss the problems that the proposed project would address; why existing materials, programs, procedures, services, or other resources cannot adequately resolve those problems; and the benefits that would be realized from the project by State courts generally.

b. What would be done if a grant is awarded? Applicants should include a summary description of the project to be conducted and the approach to be taken, including the anticipated length of the grant period. Applicants requesting a waiver of the application requirement for a grant of less than $40,000 should explain the proposed methods for conducting the project as fully as space allows, and include a detailed task schedule as an attachment to the concept paper.

c. How would the effects and quality of the project be determined? Applicants should include a summary description of how the project would be evaluated, including the criteria that would be used to measure its success or impact.

d. How would others find out about the project and be able to use the results? Applicants should describe the products that would result, the degree to which they would be applicable to courts across the nation, and to whom the products and results of the project would be disseminated in addition to the SJI-designated libraries (e.g., State chief justices, specified groups of trial judges, State court administrators, specified groups of trial court administrators, State judicial educators, or other audiences). Applicants proposing to develop web-based products should provide for sending a hard-copy document to the SJI-designated libraries and other appropriate audiences to alert them to the availability of the web site or electronic product (i.e., a written report with a reference to the web site).

3. The Budget

a. Preliminary Budget. A preliminary budget must be attached to the narrative that includes the information specified on Form E included in Appendix H of this Guideline. Applicants should be aware that prior written Institute approval is required for any consultant rate in excess of $300 per day and that Institute funds may not be used to pay a consultant in excess of $900 per day.

b. Concept Papers Requesting Accelerated Award of a Grant of Less than $40,000. Applicants requesting a waiver of the application requirement and approval of a grant based on a concept paper under C. in this section must attach to Form E (see Appendix H) a budget narrative that explains the basis for each of the items listed and indicates whether the costs would be paid from grant funds, through a matching contribution, or from other sources. Courts requesting an accelerated award must also attach a Certificate of State Approval—Form B (see Appendix I) signed by the Chief Justice of the State Supreme Court or the Chief Justice's designee.

4. Letters of Cooperation or Support

The Institute encourages concept paper applicants to attach letters of cooperation and support from the courts and related agencies that would be involved in or directly affected by the proposed project. Letters of support may be sent under separate cover; however, to ensure sufficient time to bring them to the Board's attention, support letters sent under separate cover must be received no later than January 4, 2002.

5. Page Limits

a. The Institute will not accept concept papers with program narratives exceeding eight double-spaced pages (see A.2. of this section). This page limit does not include the cover page, budget form, letters of cooperation or support, or, for papers requesting accelerated awards, the budget narrative and task schedule. Additional material should not be attached unless it is essential to impart a clear understanding of the project.

b. Applicants submitting more than one concept paper may include material that would be identical in each concept paper in a cover letter. This material will be incorporated by reference into each paper and counted against the eight-page limit for each. A copy of the cover letter should be attached to each copy of each concept paper.

6. Sample Concept Papers

Sample concept papers from previous funding cycles are available from the Institute upon request.

B. Submission Requirements

An original and three copies of all concept papers submitted for consideration in Fiscal Year 2002 must be sent by first class or overnight mail or by courier (but not by fax or e-mail) no later than November 21, 2001.

A postmark or courier receipt will constitute evidence of the submission date. All envelopes containing concept papers should be marked CONCEPT PAPER and sent to: State Justice Institute, 1650 King Street, Suite 600, Alexandria, Virginia 22314.

The Institute will acknowledge receipt of each concept paper in writing. Extensions of the deadline for submission of concept papers will not be granted without good cause.

C. Institute Review

1. Review Process

Concept papers will be reviewed competitively by the Institute's Board of Directors. Institute staff will prepare a narrative summary and a rating sheet assigning points for each relevant selection criterion for those concept papers which fall within the scope of the Institute's funding program and merit serious consideration by the Board. Staff will also prepare a list of those papers that, in the judgment of the Executive Director, propose projects that lie outside the scope of the Institute's program or are not likely to merit serious consideration by the Board. The narrative summaries, rating sheets, and list of non-reviewed papers will be presented to the Board for its review. Committees of the Board will review concept paper summaries within assigned program areas and prepare recommendations for the full Board. The full Board of Directors will then decide which concept paper applicants will be invited to submit formal applications for funding. The decision to invite an application is solely that of the Board of Directors.

The Board may waive the application requirement and approve a grant based on a concept paper for a project requiring less than $40,000 when the need for and benefits of the project are clear and the methodology and budget require little additional explanation. Applicants considering whether to request consideration for an accelerated award should make certain that the proposed budget is sufficient to accomplish the project objectives in a quality manner. Because the Institute's experience has been that projects to conduct empirical research or a program evaluation ordinarily require a more thorough explanation of the methodology to be used than can be provided within the space limitations of a concept paper, the Board is unlikely to waive the application requirement for such projects.

2. Selection Criteria a. All concept papers will be evaluated on the basis of the following criteria:

(1) The demonstration of need for the project;

(2) The soundness and innovativeness of the approach described;

(3) The benefits to be derived from the project;

(4) The reasonableness of the proposed budget;

(5) The proposed project's relationship to one of the “Special Interest” categories set forth in section II.B; and

(6) The degree to which the findings, procedures, training, technology, or other results of the project can be transferred to other jurisdictions.

Single jurisdiction concept papers will be rated on the proposed project's relation to one of the “Special Interest” categories set forth in section II.B. and the special requirements listed in sections II.D. and VII.A. b. In determining which concept papers will be approved for award or selected for development into full applications, the Institute will also consider the availability of financial assistance from other sources for the project; the amount and nature (cash or in-kind) of the applicant's anticipated match; whether the applicant is a State court, a national court support or education organization, a non-court unit of government, or another type of entity eligible to receive grants under the Institute's enabling legislation (see 42 U.S.C. 10705(b)), as amended, and section IV of this Grant Guideline); the extent to which the proposed project would also benefit the Federal courts or help the State courts enforce Federal constitutional and legislative requirements; and the level of appropriations available to the Institute in the current year and the amount expected to be available in succeeding fiscal years.

3. Notification to Applicants

The Institute will send written notice to all persons submitting concept papers, informing them of the Board's decisions regarding their papers and of the key issues and questions that arose during the review process. A decision by the Board not to invite an application may not be appealed, but applicants may resubmit the concept paper or a revision thereof in a subsequent funding cycle. The Institute will also notify the relevant State contact (see Appendix C) when the Board invites applications submitted by courts within that State or that specify a participating site within that State.

VII. Applications

For a summary of the application process, visit the Institute's web site (www.statejustice.org) and click on On-Line Tutorials, then Project Grant.

A. Project Grants

An application for a Project Grant must include an application form; budget forms (with appropriate documentation); a project abstract and program narrative; a disclosure of lobbying form, when applicable; and certain certifications and assurances. The Institute will send the required application forms to applicants invited to submit a full application.

1. Forms

a. Application Form (FORM A)

The application form requests basic information regarding the proposed project, the applicant, and the total amount of funding requested from the Institute. It also requires the signature of an individual authorized to certify on behalf of the applicant that the information contained in the application is true and complete; that submission of the application has been authorized by the applicant; and that if funding for the proposed project is approved, the applicant will comply with the requirements and conditions of the award, including the assurances set forth in Form D.

b. Certificate of State Approval (FORM B)

An application from a State or local court must include a copy of FORM B signed by the State's Chief Justice or Chief Judge, the director of the designated agency, or the head of the designated council. The signature denotes that the proposed project has been approved by the State's highest court or the agency or council it has designated. It denotes further that if funding for the project is approved by the Institute, the court or the specified designee will receive, administer, and be accountable for the awarded funds.

c. Budget Forms (FORM C or C1)

Applicants may submit the proposed project budget either in the tabular format of FORM C or in the spreadsheet format of FORM C1. Applicants requesting $100,000 or more are strongly encouraged to use the spreadsheet format. If the proposed project period is for more than a year, a separate form should be submitted for each year or portion of a year for which grant support is requested, as well as for the total length of the project.

In addition to FORM C or C1, applicants must provide a detailed budget narrative providing an explanation of the basis for the estimates in each budget category. (See section VII.A.4. below.)

If funds from other sources are required to conduct the project, either as match or to support other aspects of the project, the source, current status of the request, and anticipated decision date must be provided.

d. Assurances (FORM D)

This form lists the statutory, regulatory, and policy requirements with which recipients of Institute funds must comply.

e. Disclosure of Lobbying Activities

Applicants other than units of State or local government are required to disclose whether they, or another entity that is part of the same organization as the applicant, have advocated a position before Congress on any issue, and to identify the specific subjects of their lobbying efforts. (See section IX.A.7.)

2. Project Abstract

The abstract should highlight the purposes, goals, methods, and anticipated benefits of the proposed project. It should not exceed 1 single-spaced page on 8½ by 11 inch paper.

3. Program Narrative

The program narrative for an application may not exceed 25 double-spaced pages on 8½ by 11 inch paper. Margins must be at least 1 inch, and type size must be at least 12-point and 12 cpi. The pages should be numbered. This page limit does not include the forms, the abstract, the budget narrative, and any appendices containing resumes and letters of cooperation or endorsement. Additional background material should be attached only if it is essential to impart a clear understanding of the proposed project. Numerous and lengthy appendices are strongly discouraged.

The program narrative should address the following topics:

a. Project Objectives

The applicant should include a clear, concise statement of what the proposed project is intended to accomplish. In stating the objectives of the project, applicants should focus on the overall programmatic objective (e.g., to enhance understanding and skills regarding a specific subject, or to determine how a certain procedure affects the court and litigants) rather than on operational objectives (e.g., provide training for 32 judges and court managers, or review data from 300 cases).

b. Program Areas To Be Covered

The applicant should note the Special Interest Category or Categories that are addressed by the proposed project (see section II.B.). If the proposed project does not fall within one of the Institute's Special Interest Categories, the applicant should list the Statutory Program Area or Areas that are addressed by the proposed project. (See section II.A.)

c. Need for the Project

If the project is to be conducted in a specific location(s), the applicant should discuss the particular needs of the project site(s) to be addressed by the project and why those needs are not being met through the use of existing materials, programs, procedures, services, or other resources.

If the project is not site-specific, the applicant should discuss the problems that the proposed project would address, and why existing materials, programs, procedures, services, or other resources cannot adequately resolve those problems. The discussion should include specific references to the relevant literature and to the experience in the field.

d. Tasks, Methods and Evaluation

(1) Tasks and Methods. The applicant should delineate the tasks to be performed in achieving the project objectives and the methods to be used for accomplishing each task. For example:

(a) For research and evaluation projects, the applicant should include the data sources, data collection strategies, variables to be examined, and analytic procedures to be used for conducting the research or evaluation and ensuring the validity and general applicability of the results. For projects involving human subjects, the discussion of methods should address the procedures for obtaining respondents' informed consent, ensuring the respondents' privacy and freedom from risk or harm, and the protection of others who are not the subjects of research but would be affected by the research. If the potential exists for risk or harm to the human subjects, a discussion should be included that explains the value of the proposed research and the methods to be used to minimize or eliminate such risk.

(b) For education and training projects, the applicant should include the adult education techniques to be used in designing and presenting the program, including the teaching/learning objectives of the educational design, the teaching methods to be used, and the opportunities for structured interaction among the participants; how faculty would be recruited, selected, and trained; the proposed number and length of the conferences, courses, seminars, or workshops to be conducted and the estimated number of persons who would attend them; the materials to be provided and how they would be developed; and the cost to participants.

(c) For demonstration projects, the applicant should include the demonstration sites and the reasons they were selected, or if the sites have not been chosen, how they would be identified and their cooperation obtained; and how the program or procedures would be implemented and monitored.

(d) For technical assistance projects, the applicant should explain the types of assistance that would be provided; the particular issues and problems for which assistance would be provided; how requests would be obtained and the type of assistance determined; how suitable providers would be selected and briefed; how reports would be reviewed; and the cost to recipients.

(2) Evaluation. Every project design must include an evaluation plan to determine whether the project met its objectives. The evaluation should be designed to provide an objective and independent assessment of the effectiveness or usefulness of the training or services provided; the impact of the procedures, technology, or services tested; or the validity and applicability of the research conducted. In addition, where appropriate, the evaluation process should be designed to provide ongoing or periodic feedback on the effectiveness or utility of the project in order to promote its continuing improvement. The plan should present the qualifications of the evaluator(s); describe the criteria that would be used to evaluate the project's effectiveness in meeting its objectives; explain how the evaluation would be conducted, including the specific data collection and analysis techniques to be used; discuss why this approach would be appropriate; and present a schedule for completion of the evaluation within the proposed project period.

The evaluation plan should be appropriate to the type of project proposed. For example:

(a) Research. An evaluation approach suited to many research projects is a review by an advisory panel of the research methodology, data collection instruments, preliminary analyses, and products as they are drafted. The panel should be comprised of independent researchers and practitioners representing the perspectives affected by the proposed project.

(b) Education and Training. The most valuable approaches to evaluating educational or training programs reinforce the participants' learning experience while providing useful feedback on the impact of the program and possible areas for improvement. One appropriate evaluation approach is to assess the acquisition of new knowledge, skills, attitudes, or understanding through participant feedback on the seminar or training event. Such feedback might include a self-assessment of what was learned along with the participant's response to the quality and effectiveness of faculty presentations, the format of sessions, the value or usefulness of the material presented, and other relevant factors. Another appropriate approach would be to use an independent observer who might request both verbal and written responses from participants in the program. When an education project involves the development of curricular materials, an advisory panel of relevant experts can be coupled with a test of the curriculum to obtain the reactions of participants and faculty as indicated above.

(c) Demonstration. The evaluation plan for a demonstration project should encompass an assessment of program effectiveness (e.g., how well did it work?); user satisfaction, if appropriate; the cost-effectiveness of the program; a process analysis of the program (e.g., was the program implemented as designed, and/or did it provide the services intended to the targeted population?); the impact of the program (e.g., what effect did the program have on the court, and/or what benefits resulted from the program?); and the replicability of the program or components of the program.

(d) Technical Assistance. For technical assistance projects, applicants should explain how the quality, timeliness, and impact of the assistance provided would be determined, and develop a mechanism for feedback from both the users and providers of the technical assistance.

Evaluation plans involving human subjects should include a discussion of the procedures for obtaining respondents' informed consent, ensuring the respondents' privacy and freedom from risk or harm, and the protection of others who are not the subjects of evaluation but would be affected by it. Other than the provision of confidentiality to respondents, human subject protection issues ordinarily are not applicable to participants evaluating an education program.

e. Project Management

The applicant should present a detailed management plan, including the starting and completion date for each task; the time commitments to the project of key staff and their responsibilities regarding each project task; and the procedures that would ensure that all tasks are performed on time, within budget, and at the highest level of quality. In preparing the project time line, Gantt Chart, or schedule, applicants should make certain that all project activities, including publication or reproduction of project products and their initial dissemination, would occur within the proposed project period. The management plan must also provide for the submission of Quarterly Progress and Financial Reports within 30 days after the close of each calendar quarter (i.e., no later than January 30, April 30, July 30, and October 30).

Applicants should be aware that the Institute is unlikely to approve more than one limited extension of the grant period. Therefore, the management plan should be as realistic as possible and fully reflect the time commitments of the proposed project staff and consultants.

f. Products

The program narrative in the application should contain a description of the products to be developed (e.g., training curricula and materials, videotapes, articles, manuals, or handbooks), including when they would be submitted to the Institute. The budget should include the cost of producing and disseminating the product to each in-State SJI library, State chief justice, State court administrator, and other appropriate judges or court personnel.

(1) Dissemination Plan. The application must explain how and to whom the products would be disseminated; describe how they would benefit the State courts, including how they could be used by judges and court personnel; identify development, production, and dissemination costs covered by the project budget; and present the basis on which products and services developed or provided under the grant would be offered to the courts community and the public at large (i.e., whether products would be distributed at no cost to recipients, or if costs are involved, the reason for charging recipients and the estimated price of the product) (see section IX.A.11.b.). Ordinarily, applicants should schedule all product preparation and distribution activities within the project period.

A copy of each product must be sent to the library established in each State to collect the materials developed with Institute support. (A list of these libraries is contained in Appendix D.) Applicants proposing to develop web-based products should provide for sending a hard-copy document to the SJI-designated libraries and other appropriate audiences to alert them to the availability of the web site or electronic product (i.e., a written report with a reference to the web site).

Seventeen (17) copies of all project products must be submitted to the Institute, along with an electronic version in .html format. A master copy of each videotape, in addition to 17 copies of each videotape product, must also be provided to the Institute.

(2) Types of Products and Press Releases. The type of product to be prepared depends on the nature of the project. For example, in most instances, the products of a research, evaluation, or demonstration project should include an article summarizing the project findings that is publishable in a journal serving the courts community nationally, an executive summary that would be disseminated to the project's primary audience, or both. Applicants proposing to conduct empirical research or evaluation projects with national import should describe how they would make their data available for secondary analysis after the grant period. (See section IX.A.14.a.).

The curricula and other products developed through education and training projects should be designed for use outside the classroom so that they may be used again by the original participants and others in the course of their duties.

In addition, recipients of project grants must prepare a press release describing the project and announcing the results, and distribute the release to a list of national and State judicial branch organizations. SJI will provide press release guidelines and a list of recipients to grantees at least 30 days before the end of the grant period.

(3) Institute Review. Applicants must submit a final draft of all written grant products to the Institute for review and approval at least 30 days before the products are submitted for publication or reproduction. For products in a videotape or CD-ROM format, applicants must provide for incremental Institute review of the product at the treatment, script, rough-cut, and final stages of development, or their equivalents. No grant funds may be obligated for publication or reproduction of a final grant product without the written approval of the Institute. (See section IX.A.11.e.)

(4) Acknowledgment, Disclaimer, and Logo. Applicants must also include in all project products a prominent acknowledgment that support was received from the Institute and a disclaimer paragraph based on the example provided in section IX.A.11.a.(2) of the Guideline. The “SJI” logo must appear on the front cover of a written product, or in the opening frames of a video, unless the Institute approves another placement.

g. Applicant Status

An applicant that is not a State or local court and has not received a grant from the Institute within the past two years should state whether it is either a national non-profit organization controlled by, operating in conjunction with, and serving the judicial branches of State governments, or a national non-profit organization for the education and training of State court judges and support personnel. See section IV. If the applicant is a nonjudicial unit of Federal, State, or local government, it must explain whether the proposed services could be adequately provided by non-governmental entities.

h. Staff Capability

The applicant should include a summary of the training and experience of the key staff members and consultants that qualify them for conducting and managing the proposed project. Resumes of identified staff should be attached to the application. If one or more key staff members and consultants are not known at the time of the application, a description of the criteria that would be used to select persons for these positions should be included. The applicant also should identify the person who would be responsible for managing and reporting on the finances of the proposed project.

i. Organizational Capacity

Applicants that have not received a grant from the Institute within the past two years should include a statement describing their capacity to administer grant funds, including the financial systems used to monitor project expenditures (and income, if any), and a summary of their past experience in administering grants, as well as any resources or capabilities that they have that would particularly assist in the successful completion of the project.

Unless requested otherwise, an applicant that has received a grant from the Institute within the past two years should describe only the changes in its organizational capacity, tax status, or financial capability that may affect its capacity to administer a grant.

If the applicant is a non-profit organization (other than a university), it must also provide documentation of its 501(c) tax-exempt status as determined by the Internal Revenue Service and a copy of a current certified audit report. For purposes of this requirement, “current” means no earlier than two years prior to the present calendar year.

If a current audit report is not available, the Institute will require the organization to complete a financial capability questionnaire, which must be signed by a Certified Public Accountant. Other applicants may be required to provide a current audit report, a financial capability questionnaire, or both, if specifically requested to do so by the Institute.

j. Statement of Lobbying Activities

Non-governmental applicants must submit the Institute's Disclosure of Lobbying Activities Form, which documents whether they, or another entity that is a part of the same organization as the applicant, have advocated a position before Congress on any issue, and identifies the specific subjects of their lobbying efforts.

k. Letters of Cooperation or Support

If the cooperation of courts, organizations, agencies, or individuals other than the applicant is required to conduct the project, the applicant should attach written assurances of cooperation and availability to the application, or send them under separate cover. To ensure sufficient time to bring them to the Board's attention, letters of support sent under separate cover must be received by June 7, 2002.

4. Budget Narrative

The budget narrative should provide the basis for the computation of all project-related costs. When the proposed project would be partially supported by grants from other funding sources, applicants should make clear what costs would be covered by those other grants. Additional background or schedules may be attached if they are essential to obtaining a clear understanding of the proposed budget. Numerous and lengthy appendices are strongly discouraged.

The budget narrative should cover the costs of all components of the project and clearly identify costs attributable to the project evaluation. Under OMB grant guidelines incorporated by reference in this Guideline, grant funds may not be used to purchase alcoholic beverages.

a. Justification of Personnel Compensation

The applicant should set forth the percentages of time to be devoted by the individuals who would staff the proposed project, the annual salary of each of those persons, and the number of work days per year used for calculating the percentages of time or daily rates of those individuals. The applicant should explain any deviations from current rates or established written organizational policies. If grant funds are requested to pay the salary and related costs for a current employee of a court or other unit of government, the applicant should explain why this would not constitute a supplantation of State or local funds in violation of 42 U.S.C. 10706 (d)(1). An acceptable explanation may be that the position to be filled is a new one established in conjunction with the project or that the grant funds would support only the portion of the employee's time that would be dedicated to new or additional duties related to the project.

b. Fringe Benefit Computation

The applicant should provide a description of the fringe benefits provided to employees. If percentages are used, the authority for such use should be presented, as well as a description of the elements included in the determination of the percentage rate.

c. Consultant/Contractual Services and Honoraria

The applicant should describe the tasks each consultant would perform, the estimated total amount to be paid to each consultant, the basis for compensation rates (e.g., the number of days multiplied by the daily consultant rates), and the method for selection. Rates for consultant services must be set in accordance with section X.I.2.c. Honorarium payments must be justified in the same manner as other consultant payments. Prior written Institute approval is required for any consultant rate in excess of $300 per day; Institute funds may not be used to pay a consultant more than $900 per day.

d. Travel

Transportation costs and per diem rates must comply with the policies of the applicant organization. If the applicant does not have an established travel policy, then travel rates must be consistent with those established by the Institute or the Federal Government. (A copy of the Institute's travel policy is available upon request.) The budget narrative should include an explanation of the rate used, including the components of the per diem rate and the basis for the estimated transportation expenses. The purpose of the travel should also be included in the narrative.

e. Equipment

Grant funds may be used to purchase only the equipment necessary to demonstrate a new technological application in a court or that is otherwise essential to accomplishing the objectives of the project. Equipment purchases to support basic court operations ordinarily will not be approved. The applicant should describe the equipment to be purchased or leased and explain why the acquisition of that equipment is essential to accomplish the project's goals and objectives. The narrative should clearly identify which equipment is to be leased and which is to be purchased. The method of procurement should also be described. Purchases for automated data processing equipment must comply with section X.I.2.b.

f. Supplies

The applicant should provide a general description of the supplies necessary to accomplish the goals and objectives of the grant. In addition, the applicant should provide the basis for the amount requested for this expenditure category.

g. Construction

Construction expenses are prohibited except for the limited purposes set forth in section IX.A.16.b. Any allowable construction or renovation expense should be described in detail in the budget narrative.

h. Telephone

Applicants should include anticipated telephone charges, distinguishing between monthly charges and long distance charges in the budget narrative. Also, applicants should provide the basis used to calculate the monthly and long distance estimates.

i. Postage

Anticipated postage costs for project-related mailings, including distribution of the final product(s), should be described in the budget narrative. The cost of special mailings, such as for a survey or for announcing a workshop, should be distinguished from routine operational mailing costs. The bases for all postage estimates should be included in the budget narrative.

j. Printing/Photocopying

Anticipated costs for printing or photocopying project documents, reports, and publications should be included in the budget narrative, along with the bases used to calculate these estimates.

k. Indirect Costs

Applicants should describe the indirect cost rates applicable to the grant in detail. If costs often included within an indirect cost rate are charged directly (e.g., a percentage of the time of senior managers to supervise project activities), the applicant should specify that these costs are not included within its approved indirect cost rate. These rates must be established in accordance with section X.I.4. If the applicant has an indirect cost rate or allocation plan approved by any Federal granting agency, a copy of the approved rate agreement should be attached to the application.

l. Match

The applicant should describe the source of any matching contribution and the nature of the match provided. Any additional contributions to the project should be described in this section of the budget narrative as well. If in-kind match is to be provided, the applicant should describe how the amount and value of the time, services, or materials actually contributed would be documented for audit purposes. Applicants should be aware that the time spent by participants in education courses does not qualify as in-kind match.

Applicants that do not contemplate making matching contributions continuously throughout the course of the project or on a task-by-task basis must provide a schedule within 30 days after the beginning of the project period indicating at what points during the project period the matching contributions would be made. (See sections III.P., IX.A.8., and X.E.1.)

5. Submission Requirements

a. Every applicant must submit an original and four copies of the application package consisting of FORM A; FORM B, if the application is from a State or local court, or a Disclosure of Lobbying Form, if the applicant is not a unit of State or local government; the Budget Forms (either FORM C or C-1); the Application Abstract; the Program Narrative; the Budget Narrative; and any necessary appendices.

All applications invited by the Institute's Board of Directors must be sent by first class or overnight mail or by courier no later than May 8, 2002. A postmark or courier receipt will constitute evidence of the submission date. Please mark APPLICATION on the application package envelope and send it to: State Justice Institute, 1650 King Street, Suite 600, Alexandria, VA 22314.

Receipt of each application will be acknowledged in writing. Extensions of the deadline for submission of applications will not be granted without good cause.

b. Applicants submitting more than one application may include material that would be identical in each application in a cover letter. This material will be incorporated by reference into each application and counted against the 25-page limit for the program narrative. A copy of the cover letter should be attached to each copy of each application.

B. Continuation Grant Applications

1. Purpose and Scope

Continuation grants are intended to support projects with a limited duration that involve the same type of activities as the previous project. They are intended to enhance the specific program or service produced or established during the prior grant period. They may be used, for example, when a project is divided into two or more sequential phases, for secondary analysis of data obtained in an Institute-supported research project, or for more extensive testing of an innovative technology, procedure, or program developed with SJI grant support. Continuation grants should be distinguished from ongoing support grants, which are awarded to support critically needed long-term national scope projects. See section VII.C. below.

The award of an initial grant to support a project does not constitute a commitment by the Institute to continue funding. For a project to be considered for continuation funding, the grantee must have completed all project tasks and met all grant requirements and conditions in a timely manner, absent extenuating circumstances or prior Institute approval of changes to the project design. Continuation grants are not intended to provide support for a project for which the grantee has underestimated the amount of time or funds needed to accomplish the project tasks.

2. Letters of Intent

In lieu of a concept paper, a grantee seeking a continuation grant must inform the Institute, by letter, of its intent to submit an application for such funding as soon as the need for continued funding becomes apparent but no less than 120 days before the end of the current grant period.

a. A letter of intent must be no more than 3 single-spaced pages on 8½ by 11 inch paper and contain a concise but thorough explanation of the need for continuation; an estimate of the funds to be requested; and a brief description of anticipated changes in the scope, focus, or audience of the project.

b. Within 30 days after receiving a letter of intent, Institute staff will review the proposed activities for the next project period and inform the grantee of specific issues to be addressed in the continuation application and the date by which the application must be submitted.

3. Application Format

An application for a continuation grant must include an application form, budget forms (with appropriate documentation), a project abstract conforming to the format set forth in A.2. of this section, a program narrative, a budget narrative, a Certificate of State Approval—FORM B (Appendix I) if the applicant is a State or local court, a Disclosure of Lobbying Activities form (from applicants other than units of State or local government), and any necessary appendices.

The program narrative should conform to the length and format requirements set forth in section VII.A.3. However, rather than the topics listed there, the program narrative of a continuation application should include:

a. Project Objectives. The applicant should clearly and concisely state what the continuation project is intended to accomplish.

b. Need for Continuation. The applicant should explain why continuation of the project is necessary to achieve the goals of the project, and how the continuation would benefit the participating courts or the courts community generally, by explaining, for example, how the original goals and objectives of the project would be unfulfilled if it were not continued; or how the value of the project would be enhanced by its continuation.

c. Report of Current Project Activities. The applicant should discuss the status of all activities conducted during the previous project period. Applicants should identify any activities that were not completed, and explain why.

d. Evaluation Findings. The applicant should present the key findings, impact, or recommendations resulting from the evaluation of the project, if available, and how they would be addressed during the proposed continuation. If the findings are not yet available, the applicant should provide the date by which they would be submitted to the Institute. Ordinarily, the Board will not consider an application for continuation funding until the Institute has received the evaluator's report.

e. Tasks, Methods, Staff, and Grantee Capability. The applicant should fully describe any changes in the tasks to be performed, the methods to be used, the products of the project, and how and to whom those products would be disseminated, as well as any changes in the assigned staff or the grantee's organizational capacity. Applicants should include, in addition, the criteria and methods by which the proposed continuation project would be evaluated.

f. Task Schedule. The applicant should present a detailed task schedule and timeline for the next project period.

g. Other Sources of Support. The applicant should indicate why other sources of support would be inadequate, inappropriate, or unavailable.

4. Budget and Budget Narrative

The applicant should provide a complete budget and budget narrative conforming to the requirements set forth in VII.A.4. above. Changes in the funding level requested should be discussed in terms of corresponding increases or decreases in the scope of activities or services to be rendered. In addition, the applicant should estimate the amount of grant funds that would remain unobligated at the end of the current grant period.

5. References to Previously Submitted Material

A continuation application should not repeat information contained in a previously approved application or other previously submitted materials, but should provide specific references to such materials where appropriate.

6. Submission Requirements

The submission requirements set forth in section VII.A.5., other than the mailing deadline, apply to continuation applications.

C. Ongoing Support Grants

1. Purpose and Scope

Ongoing support grants are intended to support projects that are national in scope and provide the State courts with services, programs or products for which there is a continuing critical need. An ongoing support grant may also be used to fund longitudinal research that directly benefits the State courts. Ongoing support grants are subject to the limits on size and duration set forth in V.C.2. and V.D.2. The Board will consider awarding an ongoing support grant for a period of up to 36 months. The total amount of the grant will be fixed at the time of the initial award. Funds ordinarily will be made available in annual increments as specified in section V.C.2.

The award of an initial grant to support a project does not constitute a commitment by the Institute to provide ongoing support at the end of the original project period. A project is eligible for consideration for an ongoing support grant if:

a. The project is supported by and has been evaluated under a grant from the Institute;

b. The project is national in scope and provides a significant benefit to the State courts;

c. There is a continuing critical need for the services, programs or products provided by the project, indicated by the level of use and support by members of the court community;

d. The project is accomplishing its objectives in an effective and efficient manner; and

e. It is likely that the service or program provided by the project would be curtailed or significantly reduced without Institute support.

Each ongoing support application must include an evaluation component assessing its effectiveness and operation throughout the grant period. The evaluation should be independent but may be designed collaboratively by the evaluator and the grantee. The design should call for regular feedback from the evaluator to the grantee throughout the project period concerning recommendations for mid-course corrections or improvement of the project, as well as periodic reports to the Institute at relevant points in the project.

An interim evaluation report must be submitted 18 months into the 3-year grant period. The decision to release Institute funds to support the third year of the project will be based on the interim evaluation findings and the applicant's response to any deficiencies noted in the report, as well as the availability of appropriations and the project's consistency with the Institute's priorities.

A final evaluation assessing the effectiveness, operation of, and continuing need for the project must be submitted 90 days before the end of the 3-year project period. In addition, a detailed annual task schedule must be submitted not later than 45 days before the end of the first and second years of the grant period, along with an explanation of any necessary revisions in the projected costs for the remainder of the project period.

2. Letters of Intent

In lieu of a concept paper, an applicant seeking an ongoing support grant must inform the Institute, by letter, of its intent to submit an application for such funding as soon as the need for continuing funding becomes apparent but no less than 120 days before the end of the current grant period. The letter of intent should be in the same format as that prescribed for continuation grants in B.2. of this section.

3. Format

An application for an ongoing support grant must include an application form; budget forms (with appropriate documentation); a Certificate of State Approval—FORM B (Appendix I) if the applicant is a State or local court; a Disclosure of Lobbying Activities form (from applicants other than units of State or local government); a project abstract conforming to the format set forth in A.2. of this section; a program narrative; a budget narrative; and any necessary appendices.

The program narrative should conform to the length and format requirements set forth in A.3. of this section; however, rather than the topics listed there, the program narrative of applications for ongoing support grants should address:

a. Description of Need for and Benefits of the Project. The applicant should provide a detailed discussion of the benefits provided by the project to State courts around the country, including the degree to which State courts, State court judges, or State court managers and personnel are using the services or programs provided by the project.

b. Demonstration of Court Support. The applicant should demonstrate support for the continuation of the project from the courts community.

c. Report on Current Project Activities. The applicant should discuss the extent to which the project has met its goals and objectives, identify any activities that have not been completed, and explain why they have not been completed.

d. Evaluation Findings. The applicant should attach a copy of the final evaluation report regarding the effectiveness, impact, and operation of the project, specify the key findings or recommendations resulting from the evaluation, and explain how they would be addressed during the next three years. Ordinarily, the Board will not consider an application for ongoing support until the Institute has received the evaluator's report.

e. Objectives, Tasks, Methods, Staff, and Grantee Capability. The applicant should describe fully any changes in the objectives; tasks to be performed; the methods to be used; the products of the project; how and to whom those products would be disseminated; the assigned staff; and the grantee's organizational capacity. The grantee also should describe the steps it would take to obtain support from other sources for the continued operation of the project.

f. Task Schedule. The applicant should present a general schedule for the full proposed project period and a detailed task schedule for the first year of the proposed new project period.

g. Other Sources of Support. The applicant should describe what efforts it has taken to secure support for the project from other sources.

4. Budget and Budget Narrative

The applicant should provide a complete three-year budget and budget narrative conforming to the requirements set forth in A.4. of this section, and estimate the amount of grant funds that would remain unobligated at the end of the current grant period. Changes in the funding level requested should be discussed in terms of corresponding increases or decreases in the scope of activities or services to be rendered. A complete budget narrative should be provided for the full project as well as for each year, or portion of a year, for which grant support is requested. The budget should provide for realistic cost-of-living and staff salary increases over the course of the requested project period. Applicants should be aware that the Institute is unlikely to approve a supplemental budget increase for an ongoing support grant in the absence of well-documented, unanticipated factors that would clearly justify the requested increase.

5. References to Previously Submitted Material

An application for an ongoing support grant should not repeat information contained in a previously approved application or other previously submitted materials, but should provide specific references to such materials where appropriate.

6. Submission Requirements

The submission requirements set forth in section VII.A.5., other than the mailing deadline, apply to applications for ongoing support grants.

D. Technical Assistance Grants

1. Purpose and Scope

Technical assistance grants are awarded to State and local courts to obtain the assistance of outside experts in diagnosing, developing, and implementing a response to a particular problem in a jurisdiction.

2. Application Procedures

For a summary of the application procedures for Technical Assistance grants, visit the Institute's web site (www.statejustice.org) and click On-Line Tutorials, then Technical Assistance Grant.

In lieu of formal applications, applicants for Technical Assistance grants may submit, at any time, an original and three copies of a detailed letter describing the proposed project. Letters from an individual trial or appellate court must be signed by the presiding judge or manager of that court. Letters from the State court system must be signed by the Chief Justice or State Court Administrator.

3. Application Format

Although there is no prescribed form for the letter nor a minimum or maximum page limit, letters of application should include the following information:

a. Need for Funding. What is the critical need facing the court? How would the proposed technical assistance help the court meet this critical need? Why cannot State or local resources fully support the costs of the required consultant services?

b. Project Description. What tasks would the consultant be expected to perform, and how would they be accomplished? Which organization or individual would be hired to provide the assistance, and how was this consultant selected? If a consultant has not yet been identified, what procedures and criteria would be used to select the consultant? (Applicants are expected to follow their jurisdictions' normal procedures for procuring consultant services.) What specific tasks would the consultant(s) and court staff undertake? What is the schedule for completion of each required task? What is the time frame for completion of the entire project? How would the court oversee the project and provide guidance to the consultant, and who at the court would be responsible for coordinating all project tasks and submitting quarterly progress and financial status reports?

If the consultant has been identified, the applicant should provide a letter from that individual or organization documenting interest in and availability for the project, as well as the consultant's ability to complete the assignment within the proposed time frame and for the proposed cost. The consultant must agree to submit a detailed written report to the court and the Institute upon completion of the technical assistance.

c. Likelihood of Implementation. What steps have been or would be taken to facilitate implementation of the consultant's recommendations upon completion of the technical assistance? For example, if the support or cooperation of specific court officials or committees, other agencies, funding bodies, organizations, or a court other than the applicant would be needed to adopt the changes recommended by the consultant and approved by the court, how would they be involved in the review of the recommendations and development of the implementation plan?

d. Support for the Project from the State Supreme Court or its Designated Agency or Council. Written concurrence on the need for the technical assistance must be submitted. This concurrence may be a copy of SJI Form B (see Appendix I) signed by the Chief Justice of the State Supreme Court or the Chief Justice's designee, or a letter from the State Chief Justice or designee. The concurrence may be submitted with the applicant's letter or under separate cover prior to consideration of the application. The concurrence also must specify whether the State Supreme Court would receive, administer, and account for the grant funds, if awarded, or would designate the local court or a specified agency or council to receive the funds directly.

4. Budget and Matching State Contribution

A completed Form E, Preliminary Budget (see Appendix H) and budget narrative must be included with the letter requesting technical assistance. The estimated cost of the technical assistance services should be broken down into the categories listed on the budget form rather than aggregated under the Consultant/Contractual category.

The budget narrative should provide the basis for all project-related costs, including the basis for determining the estimated consultant costs, if compensation of the consultant is required (e.g., the number of days per task times the requested daily consultant rate). Applicants should be aware that consultant rates above $300 per day must be approved in advance by the Institute, and that no consultant will be paid more than $900 per day from Institute funds. In addition, the budget should provide for submission of two copies of the consultant's final report to the Institute.

Recipients of Technical Assistance grants do not have to submit an audit but must maintain appropriate documentation to support expenditures. (See section IX.A.3.)

5. Submission Requirements

Letters of application may be submitted at any time; however, all of the letters received during a calendar quarter will be considered at one time. Applicants submitting letters between:

October 1, 2001 and January 11, 2002 will be notified of the Board's decision by March 29, 2002;

January 14, 2002 and March 8, 2002 will be notified by May 31, 2002;

March 11, 2002 and June 7, 2002 will be notified by August 23, 2002; and

June 10 and September 27, 2002 will be notified of the Board's decision by December 6, 2002.

If the support or cooperation of agencies, funding bodies, organizations, or courts other than the applicant would be needed in order for the consultant to perform the required tasks, written assurances of such support or cooperation should accompany the application letter. Support letters also may be submitted under separate cover; however, to ensure that there is sufficient time to bring them to the attention of the Board's Technical Assistance Committee, letters sent under separate cover must be received not less than three weeks prior to the Board meeting at which the technical assistance requests will be considered (i.e., by October 26, 2001, and February 8, April 19, July 5, and October 18, 2002).

E. Judicial Branch Education Technical Assistance Grants

1. Purpose and Scope

Judicial Branch Education Technical Assistance (JBE TA) grants are awarded to State and local courts to support: (1) expert assistance in planning, developing, and administering State judicial branch education programs; and/or (2) replication or modification of a model training program originally developed with Institute funds. Ordinarily, the Institute will support the adaptation of a curriculum once (i.e., with one grant) in a given State.

JBE TA grants may support consultant assistance in developing systematic or innovative judicial branch educational programming. The assistance might include development of improved methods for assessing the need for, and evaluating the quality and impact of, court education programs and their administration by State or local courts; faculty development; and/or topical program presentations. Such assistance may be tailored to address the needs of a particular State or local court or specific categories of court employees throughout a State and, in certain cases, in a region, if sponsored by a court.

2. Application Procedures

For a summary of the application procedures for Judicial Branch Education Technical Assistance grants, visit the Institute's web site (www.statejustice.org) and click on On-Line Tutorials, then Judicial Branch Education Technical Assistance Grant.

In lieu of concept papers and formal applications, applicants should submit an original and three photocopies of a detailed letter.

3. Application Format

Although there is no prescribed format for the letter, or a minimum or maximum page limit, letters of application should include the following information:

a. For on-site consultant assistance:

(1) Need for Funding. What is the critical judicial branch educational need facing the court? How would the proposed technical assistance help the court meet this critical need? Why cannot State or local resources fully support the costs of the required consultant services?

(2) Project Description. What tasks would the consultant be expected to perform, and how would they be accomplished? Which organization or individual would be hired to provide the assistance, and how was this consultant selected? If a consultant has not yet been identified, what procedures and criteria would be used to select the consultant? (Applicants are expected to follow their jurisdictions' normal procedures for procuring consultant services.) What specific tasks would the consultant(s) and court staff undertake? What is the schedule for completion of each required task? What is the time frame for completion of the entire project? How would the court oversee the project and provide guidance to the consultant, and who at the court would be responsible for coordinating all project tasks and submitting quarterly progress and financial status reports?

If the consultant has been identified, the applicant should provide a letter from that individual or organization documenting interest in and availability for the project, as well as the consultant's ability to complete the assignment within the proposed time frame and for the proposed cost. The consultant must agree to submit a detailed written report to the court and the Institute upon completion of the technical assistance.

(3) Likelihood of Implementation. What steps have been or would be taken to facilitate implementation of the consultant's recommendations upon completion of the technical assistance? For example, if the support or cooperation of specific court officials or committees, other agencies, funding bodies, organizations, or a court other than the applicant would be needed to adopt the changes recommended by the consultant and approved by the court, how would they be involved in the review of the recommendations and development of the implementation plan?

(4) Support for the Project from the State Supreme Court or its Designated Agency or Council. Written concurrence on the need for the technical assistance must be submitted. This concurrence may be a copy of SJI Form B (see Appendix I) signed by the Chief Justice of the State Supreme Court or the Chief Justice's designee, or a letter from the State Chief Justice or designee. The concurrence may be submitted with the applicant's letter or under separate cover prior to consideration of the application. The concurrence also must specify whether the State Supreme Court would receive, administer, and account for the grant funds, if awarded, or would designate the local court or a specified agency or council to receive the funds directly.

b. For adaptation of a curriculum:

(1) Project Description. What is the title of the model curriculum to be adapted and who originally developed it with Institute funding? Why is this education program needed at the present time? What are the project's goals? What are the learning objectives of the adapted curriculum? What program components would be implemented, and what types of modifications, if any, are anticipated in length, format, learning objectives, teaching methods, or content? Who would be responsible for adapting the model curriculum? Who would the participants be, how many would there be, how would they be recruited, and from where would they come (e.g., from across the State, from a single local jurisdiction, from a multi-State region)?

(2) Need for Funding. Why are sufficient State or local resources unavailable to fully support the modification and presentation of the model curriculum? What is the potential for replicating or integrating the adapted curriculum in the future using State or local funds, once it has been successfully adapted and tested?

(3) Likelihood of Implementation. What is the proposed timeline, including the project start and end dates? On what date(s) would the judicial branch education program be presented? What process would be used to modify and present the program? Who would serve as faculty, and how were they selected? What measures would be taken to facilitate subsequent presentations of the program? (Ordinarily, an independent evaluation of a curriculum adaptation project is not required; however, the results of any evaluation should be included in the final report.)

(4) Expressions of Interest by Judges and/or Court Personnel. Does the proposed program have the support of the court system leadership, and of judges, court managers, and judicial branch education personnel who are expected to attend? (This may be demonstrated by attaching letters of support.)

(5) Chief Justice's Concurrence. Local courts should attach a concurrence form signed by the Chief Justice of the State or his or her designee. (See Form B, Appendix I.)

4. Budget and Matching State Contribution

Applicants should attach a copy of budget Form E (see Appendix H) and a budget narrative (see A.4. in this section) that describes the basis for the computation of all project-related costs and the source of the match offered. As with other awards to State or local courts, cash or in-kind match must be provided in an amount equal to at least 50% of the grant amount requested.

5. Submission Requirements

Letters of application may be submitted at any time. However, applicants should allow at least 90 days between the date of submission of a curriculum adaptation request and the date of the proposed program to allow sufficient time for needed planning.

F. Scholarships

1. Purpose and Scope

The purposes of the Institute scholarship program are to enhance the skills, knowledge, and abilities of judges and court managers; enable State court judges and court managers to attend out-of-State educational programs sponsored by national and State providers that they could not otherwise attend because of limited State, local, and personal budgets; and provide States, judicial educators, and the Institute with evaluative information on a range of judicial and court-related education programs.

Scholarships will be granted to individuals only for the purpose of attending an educational program in another State. An applicant may apply for a scholarship for only one educational program during any one application cycle.

Scholarship funds may be used only to cover the costs of tuition and transportation expenses. Transportation expenses may include round-trip coach airfare or train fare. Scholarship recipients are strongly encouraged to take advantage of excursion or other special airfares (e.g., reductions offered when a ticket is purchased 21 days in advance of the travel date or because the traveler is staying over a Saturday night) when making their travel arrangements. Recipients who drive to a program site may receive $.345/mile up to the amount of the advanced-purchase round-trip airfare between their homes and the program sites. Funds to pay tuition and transportation expenses in excess of $1,500 and other costs of attending the program—such as lodging, meals, materials, transportation to and from airports, and local transportation (including rental cars)—at the program site must be obtained from other sources or borne by the scholarship recipient. Scholarship applicants are encouraged to check other sources of financial assistance and to combine aid from various sources whenever possible.

A scholarship is not transferable to another individual. It may be used only for the course specified in the application unless attendance at a different course that meets the eligibility requirements is approved in writing by the Institute. Decisions on such requests will be made within 30 days after the receipt of the request letter.

2. Eligibility Requirements

For a summary of the Scholarship award process, visit the Institute's web site at www.statejustice.org and click on On-Line Tutorials, then Scholarship.

a. Recipients. Scholarships can be awarded only to full-time judges of State or local trial and appellate courts; full-time professional, State, or local court personnel with management responsibilities; and supervisory and management probation personnel in judicial branch probation offices. Senior judges, part-time judges, quasi-judicial hearing officers including referees and commissioners, State administrative law judges, staff attorneys, law clerks, line staff, law enforcement officers, and other executive branch personnel are not eligible to receive a scholarship.

b. Courses. A Scholarship can be awarded only for a course presented in a State other than the one in which the applicant resides or works that is designed to enhance the skills of new or experienced judges and court managers; addresses any of the topics listed in the Institute's Special Interest categories; or is offered by a recognized graduate program for judges or court managers. The annual or mid-year meeting of a State or national organization of which the applicant is a member does not qualify as an out-of-State educational program for scholarship purposes, even though it may include workshops or other training sessions.

Applicants are encouraged not to wait for the decision on a scholarship to register for an educational program they wish to attend.

3. Forms

a. Scholarship Application—FORM S-1 (Appendix G)

The Scholarship Application requests basic information about the applicant and the educational program the applicant would like to attend. It also addresses the applicant's commitment to share the skills and knowledge gained with local court colleagues and to submit an evaluation of the program the applicant attends. The Scholarship Application must bear the original signature of the applicant. Faxed or photocopied signatures will not be accepted.

b. Scholarship Application Concurrence—FORM S-2 (Appendix G)

Judges and court managers applying for Scholarships must submit the written concurrence of the Chief Justice of the State's Supreme Court (or the Chief Justice's designee) on the Institute's Judicial Education Scholarship Concurrence form (see Appendix G). The signature of the presiding judge of the applicant's court cannot be substituted for that of the Chief Justice or the Chief Justice's designee. Court managers, other than elected clerks of court, also must submit a letter of support from their immediate supervisors.

4. Submission Requirements

Scholarship applications must be submitted during the periods specified below:

October 1 and December 3, 2001, for programs beginning between January 1 and March 31, 2002; January 4 and March 4, 2002, for programs beginning between April 1 and June 30, 2002; April 1 and June 3, 2002, for programs beginning between July 1 and September 30, 2002;

July 5 and August 30, 2002, for programs beginning between October 1 and December 31, 2002, and

October 1 and December 2, 2002, for programs beginning between January 1 and March 31, 2003.

No exceptions or extensions will be granted. Applications sent prior to the beginning of an application period will be treated as having been sent one week after the beginning of that application period. All the required items must be received for an application to be considered. If the Concurrence form or letter of support is sent separately from the application, the postmark date of the last item to be sent will be used in applying the above criteria.

All applications should be sent by mail or courier (not fax or e-mail) to: Scholarship Program Coordinator, State Justice Institute, 1650 King Street, Suite 600, Alexandria, VA 22314.

VIII. Application Review Procedures

A. Preliminary Inquiries

The Institute staff will answer inquiries concerning application procedures. The staff contact will be named in the Institute's letter acknowledging receipt of the application.

B. Selection Criteria

1. Project, Continuation, and Ongoing Support Grant Applications

a. All applications will be rated on the basis of the criteria set forth below. The Institute will accord the greatest weight to the following criteria:

(1) The soundness of the methodology;

(2) The demonstration of need for the project;

(3) The appropriateness of the proposed evaluation design;

(4) The applicant's management plan and organizational capabilities;

(5) The qualifications of the project's staff;

(6) The products and benefits resulting from the project, including the extent to which the project will have long-term benefits for State courts across the nation;

(7) The degree to which the findings, procedures, training, technology, or other results of the project can be transferred to other jurisdictions;

(8) The reasonableness of the proposed budget;

(9) The demonstration of cooperation and support of other agencies that may be affected by the project; and

(10) The proposed project's relationship to one of the “Special Interest” categories set forth in section II.B.

b. For continuation and ongoing support grant applications, the key findings and recommendations of evaluations and the proposed responses to those findings and recommendations also will be considered.

c. In determining which projects to support, the Institute will also consider whether the applicant is a State court, a national court support or education organization, a non-court unit of government, or other type of entity eligible to receive grants under the Institute's enabling legislation (see 42 U.S.C. 10705(6) (as amended) and Section IV. above); the availability of financial assistance from other sources for the project; the amount and nature (cash or in-kind) of the applicant's match; the extent to which the proposed project would also benefit the Federal courts or help State courts enforce Federal constitutional and legislative requirements; and the level of appropriations available to the Institute in the current year and the amount expected to be available in succeeding fiscal years.

2. Technical Assistance Grant Applications

Technical Assistance grant applications will be rated on the basis of the following criteria:

a. Whether the assistance would address a critical need of the court;

b. The soundness of the technical assistance approach to the problem;

c. The qualifications of the consultant(s) to be hired, or the specific criteria that will be used to select the consultant(s);

d. The court's commitment to act on the consultant's recommendations; and

e. The reasonableness of the proposed budget.

The Institute also will consider factors such as the level and nature of the match that would be provided, diversity of subject matter, geographic diversity, the level of appropriations available to the Institute in the current year, and the amount expected to be available in succeeding fiscal years.

3. Judicial Branch Education Technical Assistance Grant Applications

Judicial Branch Education Technical Assistance grant applications will be rated on the basis of the following criteria:

a. For on-site consultant assistance:

(1) Whether the assistance would address a critical need of the court;

(2) The soundness of the technical assistance approach to the problem;

(3) The qualifications of the consultant(s) to be hired, or the specific criteria that will be used to select the consultant(s);

(4) The court's commitment to act on the consultant's recommendations; and

(5) The reasonableness of the proposed budget.

b. For curriculum adaptation projects:

(1) The goals and objectives of the proposed project;

(2) The need for outside funding to support the program;

(3) The appropriateness of the approach in achieving the project's educational objectives;

(4) The likelihood of effective implementation and integration of the modified curriculum into the State's or local jurisdiction's ongoing educational programming; and

(5) Expressions of interest by the judges and/or court personnel who would be directly involved in or affected by the project.

The Institute will also consider factors such as the reasonableness of the amount requested, compliance with match requirements, diversity of subject matter, geographic diversity, the level of appropriations available in the current year, and the amount expected to be available in succeeding fiscal years.

4. Scholarships

Scholarships will be awarded on the basis of:

a. The date on which the application and concurrence (and support letter, if required) were received;

b. The unavailability of State or local funds to cover the costs of attending the program or scholarship funds from another source;

c. The absence of educational programs in the applicant's State addressing the topic(s) covered by the educational program for which the scholarship is being sought;

d. Geographic balance among the recipients;

e. The balance of scholarships among educational programs;

f. The balance of scholarships among the types of courts represented; and

g. The level of appropriations available to the Institute in the current year and the amount expected to be available in succeeding fiscal years.

The postmark or courier receipt will be used to determine the date on which the application form and other required items were sent.

C. Review and Approval Process

1. Project, Continuation, and Ongoing Support Grant Applications

Applications will be reviewed competitively by the Board of Directors. The Institute staff will prepare a narrative summary of each application and a rating sheet assigning points for each relevant selection criterion. When necessary, applications may also be reviewed by outside experts. Committees of the Board will review applications within assigned program categories and prepare recommendations to the full Board. The full Board of Directors will then decide which applications to approve for grants. The decision to award a grant is solely that of the Board of Directors.

Awards approved by the Board will be signed by the Chairman of the Board on behalf of the Institute.

2. Technical Assistance and Judicial Branch Education Technical Assistance Grant Applications

The Institute staff will prepare a narrative summary of each application and a rating sheet assigning points for each relevant selection criterion. Applications will be reviewed competitively by a committee of the Board of Directors. The Board of Directors has delegated its authority to approve Technical Assistance and Judicial Branch Education Technical Assistance grants to the committee established for each program.

Approved awards will be signed by the Chairman of the Board on behalf of the Institute.

3. Scholarships

Scholarship applications are reviewed quarterly by a committee of the Institute's Board of Directors. The Board of Directors has delegated its authority to approve Scholarships to the committee established for the program.

Approved awards will be signed by the Chairman of the Board on behalf of the Institute.

D. Return Policy

Unless a specific request is made, unsuccessful applications will not be returned. Applicants are advised that Institute records are subject to the provisions of the Federal Freedom of Information Act, 5 U.S.C. 552.

E. Notification of Board Decision

1. The Institute will send written notice to applicants concerning all Board decisions to approve, defer, or deny their respective applications. For all applications (except Scholarships), the Institute also will convey the key issues and questions that arose during the review process. A decision by the Board to deny an application may not be appealed, but it does not prohibit resubmission of a proposal based on that application in a subsequent funding cycle. With respect to awards other than Scholarships, the Institute will also notify the designated State contact listed in Appendix C when grants are approved by the Board to support projects that will be conducted by or involve courts in that State.

2. The Board anticipates acting upon Judicial Branch Education Technical Assistance grant applications requesting adaptations of curricula within 45 days after receipt. Grant funds will be available only after Board approval and negotiation of the final terms of the grant.

3. The Institute intends to notify each Scholarship applicant of the Board committee's decision within 30 days after the close of the relevant application period.

F. Response to Notification of Approval

With the exception of those approved for Scholarships, applicants have 30 days from the date of the letter notifying them that the Board has approved their application to respond to any revisions requested by the Board. If the requested revisions (or a reasonable schedule for submitting such revisions) have not been submitted to the Institute within 30 days after notification, the approval may be automatically rescinded and the application presented to the Board for reconsideration.

IX. Compliance Requirements

The State Justice Institute Act contains limitations and conditions on grants, contracts, and cooperative agreements awarded by the Institute. The Board of Directors has approved additional policies governing the use of Institute grant funds. These statutory and policy requirements are set forth below.

A. Recipients of Project Grants

1. Advocacy

No funds made available by the Institute may be used to support or conduct training programs for the purpose of advocating particular nonjudicial public policies or encouraging nonjudicial political activities. 42 U.S.C. 10706(b).

2. Approval of Key Staff

If the qualifications of an employee or consultant assigned to a key project staff position are not described in the application or if there is a change of a person assigned to such a position, the recipient must submit a description of the qualifications of the newly assigned person to the Institute. Prior written approval of the qualifications of the new person assigned to a key staff position must be received from the Institute before the salary or consulting fee of that person and associated costs may be paid or reimbursed from grant funds.

3. Audit

Recipients of project grants must provide for an annual fiscal audit which includes an opinion on whether the financial statements of the grantee present fairly its financial position and its financial operations are in accordance with generally accepted accounting principles. (See section X.K. of the Guideline for the requirements of such audits.) Recipients of scholarships or judicial branch education technical assistance or technical assistance grants are not required to submit an audit, but must maintain appropriate documentation to support all expenditures.

4. Budget Revisions

Budget revisions among direct cost categories that (i) transfer grant funds to an unbudgeted cost category or (ii) individually or cumulatively exceed five percent of the approved original budget or the most recently approved revised budget require prior Institute approval.

5. Conflict of Interest

Personnel and other officials connected with Institute-funded programs must adhere to the following requirements:

a. No official or employee of a recipient court or organization shall participate personally through decision, approval, disapproval, recommendation, the rendering of advice, investigation, or otherwise in any proceeding, application, request for a ruling or other determination, contract, grant, cooperative agreement, claim, controversy, or other particular matter in which Institute funds are used, where, to his or her knowledge, he or she or his or her immediate family, partners, organization other than a public agency in which he or she is serving as officer, director, trustee, partner, or employee or any person or organization with whom he or she is negotiating or has any arrangement concerning prospective employment, has a financial interest.

b. In the use of Institute project funds, an official or employee of a recipient court or organization shall avoid any action which might result in or create the appearance of:

(1) Using an official position for private gain; or

(2) Affecting adversely the confidence of the public in the integrity of the Institute program.

c. Requests for proposals or invitations for bids issued by a recipient of Institute funds or a subgrantee or subcontractor will provide notice to prospective bidders that the contractors who develop or draft specifications, requirements, statements of work, and/or requests for proposals for a proposed procurement will be excluded from bidding on or submitting a proposal to compete for the award of such procurement.

6. Inventions and Patents

If any patentable items, patent rights, processes, or inventions are produced in the course of Institute-sponsored work, such fact shall be promptly and fully reported to the Institute. Unless there is a prior agreement between the grantee and the Institute on disposition of such items, the Institute shall determine whether protection of the invention or discovery shall be sought. The Institute will also determine how the rights in the invention or discovery, including rights under any patent issued thereon, shall be allocated and administered in order to protect the public interest consistent with “Government Patent Policy” (President's Memorandum for Heads of Executive Departments and Agencies, February 18, 1983, and statement of Government Patent Policy).

7. Lobbying

a. Funds awarded to recipients by the Institute shall not be used, indirectly or directly, to influence Executive Orders or similar promulgations by Federal, State or local agencies, or to influence the passage or defeat of any legislation by Federal, State or local legislative bodies. 42 U.S.C. 10706(a).

b. It is the policy of the Board of Directors to award funds only to support applications submitted by organizations that would carry out the objectives of their applications in an unbiased manner. Consistent with this policy and the provisions of 42 U.S.C. 10706, the Institute will not knowingly award a grant to an applicant that has, directly or through an entity that is part of the same organization as the applicant, advocated a position before Congress on the specific subject matter of the application.

8. Matching Requirements

a. All awards to courts or other units of State or local government (not including publicly supported institutions of higher education) require a match from private or public sources of not less than 50% of the total amount of the Institute's award. For example, if the total cost of a project is anticipated to be $150,000, a State court or executive branch agency may request up to $100,000 from the Institute to implement the project. The remaining $50,000 (50% of the $100,000 requested from SJI) must be provided as match. Cash match, non-cash match, or both may be provided, but the Institute will give preference to those applicants that provide a cash match to the Institute's award. (For a further definition of match, see section III.P.)

b. The requirement to provide match may be waived in exceptionally rare circumstances upon the request of the Chief Justice of the highest court in the State and approval by the Board of Directors. 42 U.S.C. 10705(d).

c. Other eligible recipients of Institute funds are not required to provide match, but are encouraged to contribute to meeting the costs of the project. In instances where match is proposed, the grantee is responsible for ensuring that the total amount proposed is actually contributed. If a proposed contribution is not fully met, the Institute may reduce the award amount accordingly, in order to maintain the ratio originally provided for in the award agreement (see section X.E).

9. Nondiscrimination

No person may, on the basis of race, sex, national origin, disability, color, or creed be excluded from participation in, denied the benefits of, or otherwise subjected to discrimination under any program or activity supported by Institute funds. Recipients of Institute funds must immediately take any measures necessary to effectuate this provision.

10. Political Activities

No recipient may contribute or make available Institute funds, program personnel, or equipment to any political party or association, or the campaign of any candidate for public or party office. Recipients are also prohibited from using funds in advocating or opposing any ballot measure, initiative, or referendum. Officers and employees of recipients shall not intentionally identify the Institute or recipients with any partisan or nonpartisan political activity associated with a political party or association, or the campaign of any candidate for public or party office. 42 U.S.C. 10706(a).

11. Products

a. Acknowledgment, Logo, and Disclaimer

(1) Recipients of Institute funds must acknowledge prominently on all products developed with grant funds that support was received from the Institute. The “SJI” logo must appear on the front cover of a written product, or in the opening frames of a video product, unless another placement is approved in writing by the Institute. This includes final products printed or otherwise reproduced during the grant period, as well as reprintings or reproductions of those materials following the end of the grant period. A camera-ready logo sheet is available from the Institute upon request.

(2) Recipients also must display the following disclaimer on all grant products: “This [document, film, videotape, etc.] was developed under [grant/cooperative agreement] number SJI—[insert number] from the State Justice Institute. The points of view expressed are those of the [author(s), filmmaker(s), etc.] and do not necessarily represent the official position or policies of the State Justice Institute.”

b. Charges for Grant-Related Products/Recovery of Costs

(1) When Institute funds fully cover the cost of developing, producing, and disseminating a product (e.g., a report, curriculum, videotape, or software), the product should be distributed to the field without charge. When Institute funds only partially cover the development, production, or dissemination costs, the grantee may, with the Institute's prior written approval, recover its costs for developing, producing, and disseminating the material to those requesting it, to the extent that those costs were not covered by Institute funds or grantee matching contributions.

(2) Applicants should disclose their intent to sell grant-related products in both the concept paper and the application. Grantees must obtain the written prior approval of the Institute of their plans to recover project costs through the sale of grant products. Written requests to recover costs ordinarily should be received during the grant period and should specify the nature and extent of the costs to be recouped, the reason that such costs were not budgeted (if the rationale was not disclosed in the approved application), the number of copies to be sold, the intended audience for the products to be sold, and the proposed sale price. If the product is to be sold for more than $25, the written request also should include a detailed itemization of costs that will be recovered and a certification that the costs were not supported by either Institute grant funds or grantee matching contributions.

(3) In the event that the sale of grant products results in revenues that exceed the costs to develop, produce, and disseminate the product, the revenue must continue to be used for the authorized purposes of the Institute-funded project or other purposes consistent with the State Justice Institute Act that have been approved by the Institute. See sections III.T. and X.G. for requirements regarding project-related income realized during the project period.

c. Copyrights

Except as otherwise provided in the terms and conditions of an Institute award, a recipient is free to copyright any books, publications, or other copyrightable materials developed in the course of an Institute-supported project, but the Institute shall reserve a royalty-free, nonexclusive and irrevocable right to reproduce, publish, or otherwise use, and to authorize others to use, the materials for purposes consistent with the State Justice Institute Act.

d. Distribution

In addition to the distribution specified in the grant application, grantees shall send:

(1) Seventeen (17) copies of each final product developed with grant funds to the Institute, unless the product was developed under either a Technical Assistance or a Judicial Branch Education Technical Assistance grant, in which case submission of 2 copies is required;

(2) An electronic version of the product in .html format to the Institute;

(3) A master copy of each videotape produced with grant funds to the Institute; and

(4) One copy of each final product developed with grant funds to the library established in each State to collect materials prepared with Institute support. (A list of the libraries is contained in Appendix D. Labels for these libraries are available on the Institute's web site, www.statejustice.org.) Grantees that develop web-based electronic products must send a hard-copy document to the SJI-designated libraries and other appropriate audiences to alert them to the availability of the web site or electronic product. Recipients of judicial branch education technical assistance and technical assistance grants are not required to submit final products to State libraries.

(5) A press release describing the project and announcing the results to a list of national and State judicial branch organizations provided by the Institute.

e. Institute Approval

No grant funds may be obligated for publication or reproduction of a final product developed with grant funds without the written approval of the Institute. Grantees shall submit a final draft of each written product to the Institute for review and approval. These drafts shall be submitted at least 30 days before the product is scheduled to be sent for publication or reproduction to permit Institute review and incorporation of any appropriate changes agreed upon by the grantee and the Institute. Grantees shall provide for timely reviews by the Institute of videotape or CD-ROM products at the treatment, script, rough cut, and final stages of development or their equivalents, prior to initiating the next stage of product development.

f. Original Material

All products prepared as the result of Institute-supported projects must be originally-developed material unless otherwise specified in the award documents. Material not originally developed that is included in such products must be properly identified, whether the material is in a verbatim or extensive paraphrase format.

12. Prohibition Against Litigation Support

No funds made available by the Institute may be used directly or indirectly to support legal assistance to parties in litigation, including cases involving capital punishment.

13. Reporting Requirements

a. Recipients of Institute funds other than Scholarships must submit Quarterly Progress and Financial Status Reports within 30 days of the close of each calendar quarter (that is, no later than January 30, April 30, July 30, and October 30). Two copies of each report must be sent. The Quarterly Progress Reports shall include a narrative description of project activities during the calendar quarter, the relationship between those activities and the task schedule and objectives set forth in the approved application or an approved adjustment thereto, any significant problem areas that have developed and how they will be resolved, and the activities scheduled during the next reporting period.

b. The quarterly Financial Status Report must be submitted in accordance with section X.H.2. of this Guideline. A final project Progress Report and Financial Status Report shall be submitted within 90 days after the end of the grant period in accordance with section X.L.1. of this Guideline.

14. Research

a. Availability of Research Data for Secondary Analysis

Upon request, grantees must make available for secondary analysis a diskette(s) or data tape(s) containing research and evaluation data collected under an Institute grant and the accompanying code manual. Grantees may recover the actual cost of duplicating and mailing or otherwise transmitting the data set and manual from the person or organization requesting the data. Grantees may provide the requested data set in the format in which it was created and analyzed.

b. Confidentiality of Information

Except as provided by Federal law other than the State Justice Institute Act, no recipient of financial assistance from SJI may use or reveal any research or statistical information furnished under the Act by any person and identifiable to any specific private person for any purpose other than the purpose for which the information was obtained. Such information and copies thereof shall be immune from legal process, and shall not, without the consent of the person furnishing such information, be admitted as evidence or used for any purpose in any action, suit, or other judicial, legislative, or administrative proceedings.

c. Human Subject Protection

All research involving human subjects shall be conducted with the informed consent of those subjects and in a manner that will ensure their privacy and freedom from risk or harm and the protection of persons who are not subjects of the research but would be affected by it, unless such procedures and safeguards would make the research impractical. In such instances, the Institute must approve procedures designed by the grantee to provide human subjects with relevant information about the research after their involvement and to minimize or eliminate risk or harm to those subjects due to their participation.

15. State and Local Court Applications

Each application for funding from a State or local court must be approved, consistent with State law, by the State's Supreme Court, or its designated agency or council. The Supreme Court or its designee shall receive, administer, and be accountable for all funds awarded on the basis of such an application. 42 U.S.C. 10705(b)(4). Appendix C to this Guideline lists the person to contact in each State regarding the administration of Institute grants to State and local courts.

16. Supplantation and Construction

To ensure that funds are used to supplement and improve the operation of State courts, rather than to support basic court services, funds shall not be used for the following purposes:

a. To supplant State or local funds supporting a program or activity (such as paying the salary of court employees who would be performing their normal duties as part of the project, or paying rent for space which is part of the court's normal operations);

b. To construct court facilities or structures, except to remodel existing facilities or to demonstrate new architectural or technological techniques, or to provide temporary facilities for new personnel or for personnel involved in a demonstration or experimental program; or

c. Solely to purchase equipment.

17. Suspension of Funding

After providing a recipient reasonable notice and opportunity to submit written documentation demonstrating why fund termination or suspension should not occur, the Institute may terminate or suspend funding of a project that fails to comply substantially with the Act, the Guideline, or the terms and conditions of the award. 42 U.S.C. 10708(a).

18. Title to Property

At the conclusion of the project, title to all expendable and nonexpendable personal property purchased with Institute funds shall vest in the recipient court, organization, or individual that purchased the property if certification is made to and approved by the Institute that the property will continue to be used for the authorized purposes of the Institute-funded project or other purposes consistent with the State Justice Institute Act. If such certification is not made or the Institute disapproves such certification, title to all such property with an aggregate or individual value of $1,000 or more shall vest in the Institute, which will direct the disposition of the property.

B. Recipients of Judicial Branch Education Technical Assistance and Technical Assistance Grants

In addition to the compliance requirements in section IX.A., recipients of Judicial Branch Education Technical Assistance and Technical Assistance grants must comply with the following requirements.

1. Judicial Branch Education Technical Assistance Grantees

Recipients of Judicial Branch Education Technical Assistance grants must:

a. Submit one copy of the manuals, handbooks, conference packets, or consultant's report developed under the grant at the conclusion of the grant period, along with a final report that includes any evaluation results and explains how the grantee intends to present the educational program in the future and/or implement the consultant's recommendations, as well as two copies of the consultant's report; and

b. Complete a Technical Assistance Evaluation Form at the conclusion of the grant period, if appropriate.

2. Technical Assistance Grantees

Recipients of Technical Assistance grants must:

a. Submit to the Institute one copy of a final report that explains how it intends to act on the consultant's recommendations, as well as two copies of the consultant's written report; and

b. Complete a Technical Assistance Evaluation Form at the conclusion of the grant period.

C. Scholarship Recipients

1. Scholarship recipients are responsible for disseminating the information received from the course to their court colleagues locally and, if possible, throughout the State (e.g., by developing a formal seminar, circulating the written material, or discussing the information at a meeting or conference).

Recipients also must submit to the Institute a certificate of attendance at the program, an evaluation of the educational program they attended, and a copy of the notice of any scholarship funds received from other sources. A copy of the evaluation must be sent to the Chief Justice of the Scholarship recipient's State. A State or local jurisdiction may impose additional requirements on scholarship recipients.

2. To receive the funds authorized by a scholarship award, recipients must submit a Scholarship Payment Voucher (Form S3) together with a tuition statement from the program sponsor, and a transportation fare receipt (or statement of the driving mileage to and from the recipient's home to the site of the educational program).

Scholarship Payment Vouchers should be submitted within 90 days after the end of the course which the recipient attended.

3. Scholarship recipients are encouraged to check with their tax advisors to determine whether the scholarship constitutes taxable income under Federal and State law.

X. Financial Requirements

A. Purpose

The purpose of this section is to establish accounting system requirements and offer guidance on procedures to assist all grantees, subgrantees, contractors, and other organizations in:

1. Complying with the statutory requirements for the award, disbursement, and accounting of funds;

2. Complying with regulatory requirements of the Institute for the financial management and disposition of funds;

3. Generating financial data to be used in planning, managing, and controlling projects; and

4. Facilitating an effective audit of funded programs and projects.

B. References

Except where inconsistent with specific provisions of this Guideline, the following circulars are applicable to Institute grants and cooperative agreements under the same terms and conditions that apply to Federal grantees. The circulars supplement the requirements of this section for accounting systems and financial record-keeping and provide additional guidance on how these requirements may be satisfied. (Circulars may be obtained from OMB by calling 202-395-3080 or visiting the OMB website at www.whitehouse.gov/OMB.)

1. Office of Management and Budget (OMB) Circular A-21, Cost Principles for Educational Institutions.

2. Office of Management and Budget (OMB) Circular A-87, Cost Principles for State and Local Governments.

3. Office of Management and Budget (OMB) Circular A-88 (revised), Indirect Cost Rates, Audit and Audit Follow-up at Educational Institutions.

4. Office of Management and Budget (OMB) Circular A-102, Uniform Administrative Requirements for Grants-in-Aid to State and Local Governments.

5. Office of Management and Budget (OMB) Circular A-110, Grants and Agreements with Institutions of Higher Education, Hospitals and Other Non-Profit Organizations.

6. Office of Management and Budget (OMB) Circular A-122, Cost Principles for Non-profit Organizations.

7. Office of Management and Budget (OMB) Circular A-128, Audits of State and Local Governments.

8. Office of Management and Budget (OMB) Circular A-133, Audits of Institutions of Higher Education and Other Non-profit Institutions.

C. Supervision and Monitoring Responsibilities

1. Grantee Responsibilities

All grantees receiving awards from the Institute are responsible for the management and fiscal control of all funds. Responsibilities include accounting for receipts and expenditures, maintaining adequate financial records, and refunding expenditures disallowed by audits.

2. Responsibilities of State Supreme Court

a. Each application for funding from a State or local court must be approved, consistent with State law, by the State's Supreme Court, or its designated agency or council. (See section III.I.)

b. The State Supreme Court or its designee shall receive all Institute funds awarded to such courts; be responsible for assuring proper administration of Institute funds; and be responsible for all aspects of the project, including proper accounting and financial record-keeping by the subgrantee. These responsibilities include:

(1) Reviewing Financial Operations. The State Supreme Court or its designee should be familiar with, and periodically monitor, its subgrantees' financial operations, records system, and procedures. Particular attention should be directed to the maintenance of current financial data.

(2) Recording Financial Activities. The subgrantee's grant award or contract obligation, as well as cash advances and other financial activities, should be recorded in the financial records of the State Supreme Court or its designee in summary form. Subgrantee expenditures should be recorded on the books of the State Supreme Court OR evidenced by report forms duly filed by the subgrantee. Non-Institute contributions applied to projects by subgrantees should likewise be recorded, as should any project income resulting from program operations.

(3) Budgeting and Budget Review. The State Supreme Court or its designee should ensure that each subgrantee prepares an adequate budget as the basis for its award commitment. The detail of each project budget should be maintained on file by the State Supreme Court.

(4) Accounting for Non-Institute Contributions. The State Supreme Court or its designee will ensure, in those instances where subgrantees are required to furnish non-Institute matching funds, that the requirements and limitations of the SJI Grant Guideline are applied to such funds.

(5) Audit Requirement. The State Supreme Court or its designee is required to ensure that subgrantees have met the necessary audit requirements set forth by the Institute (see sections K. below and IX.A.3.)

(6) Reporting Irregularities. The State Supreme Court, its designees, and its subgrantees are responsible for promptly reporting to the Institute the nature and circumstances surrounding any financial irregularities discovered.

D. Accounting System

The grantee is responsible for establishing and maintaining an adequate system of accounting and internal controls for itself and for ensuring that an adequate system exists for each of its subgrantees and contractors. An acceptable and adequate accounting system:

1. Properly accounts for receipt of funds under each grant awarded and the expenditure of funds for each grant by category of expenditure (including matching contributions and project income);

2. Assures that expended funds are applied to the appropriate budget category included within the approved grant;

3. Presents and classifies historical costs of the grant as required for budgetary and evaluation purposes;

4. Provides cost and property controls to assure optimal use of grant funds;

5. Is integrated with a system of internal controls adequate to safeguard the funds and assets covered, check the accuracy and reliability of the accounting data, promote operational efficiency, and assure conformance with any general or special conditions of the grant;

6. Meets the prescribed requirements for periodic financial reporting of operations; and

7. Provides financial data for planning, control, measurement, and evaluation of direct and indirect costs.

E. Total Cost Budgeting and Accounting

Accounting for all funds awarded by the Institute must be structured and executed on a total project cost basis. That is, total project costs, including Institute funds, State and local matching shares, and any other fund sources included in the approved project budget serve as the foundation for fiscal administration and accounting. Grant applications and financial reports require budget and cost estimates on the basis of total costs.

1. Timing of Matching Contributions

Matching contributions need not be applied at the exact time of the obligation of Institute funds. Ordinarily, the full matching share must be obligated during the award period; however, with the prior written permission of the Institute, contributions made following approval of the grant by the Institute's Board of Directors but before the beginning of the grant may be counted as match. Grantees that do not contemplate making matching contributions continuously throughout the course of a project, or on a task-by-task basis, are required to submit a schedule within 30 days after the beginning of the project period indicating at what points during the project period the matching contributions will be made. If a proposed cash match is not fully met, the Institute may reduce the award amount accordingly to maintain the ratio of grant funds to matching funds stated in the award agreement.

2. Records for Match

All grantees must maintain records which clearly show the source, amount, and timing of all matching contributions. In addition, if a project has included, within its approved budget, contributions which exceed the required matching portion, the grantee must maintain records of those contributions in the same manner as it does Institute funds and required matching shares. For all grants made to State and local courts, the State Supreme Court has primary responsibility for grantee/subgrantee compliance with the requirements of this section. (See section X.C.2. above.)

F. Maintenance and Retention of Records

All financial records, supporting documents, statistical records, and all other records pertinent to grants, subgrants, cooperative agreements, or contracts under grants must be retained by each organization participating in a project for at least three years for purposes of examination and audit. State Supreme Courts may impose record retention and maintenance requirements in addition to those prescribed in this section.

1. Coverage

The retention requirement extends to books of original entry, source documents supporting accounting transactions, the general ledger, subsidiary ledgers, personnel and payroll records, canceled checks, and related documents and records. Source documents include copies of all grant and subgrant awards, applications, and required grantee/subgrantee financial and narrative reports. Personnel and payroll records shall include the time and attendance reports for all individuals reimbursed under a grant, subgrant or contract, whether they are employed full-time or part-time. Time and effort reports will be required for consultants.

2. Retention Period

The three-year retention period starts from the date of the submission of the final expenditure report or, for grants which are renewed annually, from the date of submission of the annual expenditure report.

3. Maintenance

Grantees and subgrantees are expected to see that records of different fiscal years are separately identified and maintained so that requested information can be readily located. Grantees and subgrantees are also obligated to protect records adequately against fire or other damage. When records are stored away from the grantee's/subgrantee's principal office, a written index of the location of stored records should be on hand, and ready access should be assured.

4. Access

Grantees and subgrantees must give any authorized representative of the Institute access to and the right to examine all records, books, papers, and documents related to an Institute grant.

G. Project-Related Income

Records of the receipt and disposition of project-related income must be maintained by the grantee in the same manner as required for the project funds that gave rise to the income and must be reported to the Institute. (See section X.H.2. below.) The policies governing the disposition of the various types of project-related income are listed below.

1. Interest

A State and any agency or instrumentality of a State, including institutions of higher education and hospitals, shall not be held accountable for interest earned on advances of project funds. When funds are awarded to subgrantees through a State, the subgrantees are not held accountable for interest earned on advances of project funds. Local units of government and nonprofit organizations that are grantees must refund any interest earned. Grantees shall ensure minimum balances in their respective grant cash accounts.

2. Royalties

The grantee/subgrantee may retain all royalties received from copyrights or other works developed under projects or from patents and inventions, unless the terms and conditions of the grant provide otherwise.

3. Registration and Tuition Fees

Registration and tuition fees shall be used to pay project-related costs not covered by the grant, or to reduce the amount of grant funds needed to support the project. Registration and tuition fees may be used for other purposes only with the prior written approval of the Institute. Estimates of registration and tuition fees, and any expenses to be offset by the fees, should be included in the application budget forms and narrative.

4. Income

From the Sale of Grant Products a. When grant funds fully cover the cost of producing and disseminating a limited number of copies of a product, the grantee may, with the written prior approval of the Institute, sell additional copies reproduced at its expense at a reasonable market price, as long as the income is applied to court improvement projects consistent with the State Justice Institute Act. When grant funds only partially cover the costs of developing, producing, and disseminating a product, the grantee may, with the written prior approval of the Institute, recover costs for developing, reproducing, and disseminating the material to the extent that those costs were not covered by Institute grant funds or grantee matching contributions. If the grantee recovers its costs in this manner, then amounts expended by the grantee to develop, produce, and disseminate the material may not be considered match.

b. If the sale of products occurs during the project period, the costs and income generated by the sales must be reported on the Quarterly Financial Status Reports and documented in an auditable manner. Whenever possible, the intent to sell a product should be disclosed in the concept paper and application or reported to the Institute in writing once a decision to sell products has been made. The grantee must request approval to recover its product development, reproduction, and dissemination costs as specified in section IX.A.11.b.

5. Other

Other project income shall be treated in accordance with disposition instructions set forth in the grant's terms and conditions.

H. Payments and Financial Reporting Requirements

1. Payment of Grant Funds

The procedures and regulations set forth below are applicable to all Institute grant funds and grantees.

a. Request for Advance or Reimbursement of Funds. Grantees will receive funds on a “check-issued” basis. Upon receipt, review, and approval of a Request for Advance or Reimbursement by the Institute, a check will be issued directly to the grantee or its designated fiscal agent. A request must be limited to the grantee's immediate cash needs. The Request for Advance or Reimbursement, along with the instructions for its preparation, will be included in the official Institute award package.

b. Continuation and Ongoing Support Awards. For purposes of submitting Requests for Advance or Reimbursement, recipients of continuation and ongoing support grants should treat each grant as a new project and number the requests accordingly (i.e., on a grant rather than a project basis). For example, the first request for payment from a continuation grant or each year of an ongoing support grant would be number 1, the second number 2, etc. (See Appendix B, Questions Frequently Asked by Grantees, for further guidance.)

c. Termination of Advance and Reimbursement Funding. When a grantee organization receiving cash advances from the Institute:

(1) Demonstrates an unwillingness or inability to attain program or project goals, or to establish procedures that will minimize the time elapsing between cash advances and disbursements, or cannot adhere to guideline requirements or special conditions;

(2) Engages in the improper award and administration of subgrants or contracts; or

(3) Is unable to submit reliable and/or timely reports;

The Institute may terminate advance financing and require the grantee organization to finance its operations with its own working capital. Payments to the grantee shall then be made by check to reimburse the grantee for actual cash disbursements. In the event the grantee continues to be deficient, the Institute may suspend reimbursement payments until the deficiencies are corrected.

d. Principle of Minimum Cash on Hand. Grantees should request funds based upon immediate disbursement requirements. Grantees should time their requests to ensure that cash on hand is the minimum needed for disbursements to be made immediately or within a few days. Idle funds in the hands of subgrantees impair the goals of good cash management.

2. Financial Reporting

a. General Requirements. To obtain financial information concerning the use of funds, the Institute requires that grantees/subgrantees submit timely reports for review.

b. Two copies of the Financial Status Report are required from all grantees, other than scholarship recipients, for each active quarter on a calendar-quarter basis. This report is due within 30 days after the close of the calendar quarter. It is designed to provide financial information relating to Institute funds, State and local matching shares, project income, and any other sources of funds for the project, as well as information on obligations and outlays. A copy of the Financial Status Report, along with instructions for its preparation, is included in each official Institute Award package. If a grantee requests substantial payments for a project prior to the completion of a given quarter, the Institute may request a brief summary of the amount requested, by object class, to support the Request for Advance or Reimbursement.

c. Additional Requirements for Continuation and Ongoing Support Grants. Grantees receiving continuation or ongoing support grants should number their quarterly Financial Status Reports on a grant rather than a project basis. For example, the first quarterly report for a continuation grant or each year of an ongoing support award should be number 1, the second number 2, etc.

3. Consequences of Non-Compliance With Submission Requirement

Failure of the grantee to submit required financial and progress reports may result in suspension or termination of grant payments.

I. Allowability of Costs

1. General

Except as may be otherwise provided in the conditions of a particular grant, cost allowability is determined in accordance with the principles set forth in OMB Circular A-21, Cost Principles Applicable to Grants and Contracts with Educational Institutions; A-87, Cost Principles for State and Local Governments; and A-122, Cost Principles for Non-profit Organizations. No costs may be recovered to liquidate obligations incurred after the approved grant period. Circulars may be obtained from OMB by calling 202-395-3080 or visiting the OMB website at www.whitehouse.gov/OMB.

2. Costs Requiring Prior Approval

a. Pre-agreement Costs. The written prior approval of the Institute is required for costs considered necessary but which occur prior to the start date of the project period.

b. Equipment. Grant funds may be used to purchase or lease only that equipment essential to accomplishing the goals and objectives of the project. The written prior approval of the Institute is required when the amount of automated data processing (ADP) equipment to be purchased or leased exceeds $10,000 or software to be purchased exceeds $3,000.

c. Consultants. The written prior approval of the Institute is required when the rate of compensation to be paid a consultant exceeds $300 a day. Institute funds may not be used to pay a consultant more than $900 per day.

d. Budget Revisions. Budget revisions among direct cost categories that (i) transfer grant funds to an unbudgeted cost category or (ii) individually or cumulatively exceed five percent of the approved original budget or the most recently approved revised budget require prior Institute approval. See section XI.A.1.

3. Travel Costs

Transportation and per diem rates must comply with the policies of the grantee. If the grantee does not have an established written travel policy, then travel rates must be consistent with those established by the Institute or the Federal Government. Institute funds may not be used to cover the transportation or per diem costs of a member of a national organization to attend an annual or other regular meeting of that organization.

4. Indirect Costs

These are costs of an organization that are not readily assignable to a particular project but are necessary to the operation of the organization and the performance of the project. The cost of operating and maintaining facilities, depreciation, and administrative salaries are examples of the types of costs that are usually treated as indirect costs. The Institute's policy requires all costs to be budgeted directly; however, if a grantee has an indirect cost rate approved by a Federal agency as set forth below, the Institute will accept that rate.

a. Approved Plan Available. (1) The Institute will accept an indirect cost rate or allocation plan approved for a grantee during the preceding two years by any Federal granting agency on the basis of allocation methods substantially in accord with those set forth in the applicable cost circulars. A copy of the approved rate agreement must be submitted to the Institute.

(2) Where flat rates are accepted in lieu of actual indirect costs, grantees may not also charge expenses normally included in overhead pools, e.g., accounting services, legal services, building occupancy and maintenance, etc., as direct costs.

(3) When utilizing total direct costs as the base, organizations with approved indirect cost rates usually exclude contracts under grants from any overhead recovery. The negotiated agreement will stipulate that contracts are excluded from the base for overhead recovery.

b. Establishment of Indirect Cost Rates. To be reimbursed for indirect costs, a grantee must first establish an appropriate indirect cost rate. To do this, the grantee must prepare an indirect cost rate proposal and submit it to the Institute within three months after the start of the grant period to assure recovery of the full amount of allowable indirect costs. The rate must be developed in accordance with principles and procedures appropriate to the type of grantee institution involved as specified in the applicable OMB Circular.

c. No Approved Plan. If an indirect cost proposal for recovery of actual indirect costs is not submitted to the Institute within three months after the start of the grant period, indirect costs will be irrevocably disallowed for all months prior to the month that the indirect cost proposal is received.

J. Procurement and Property Management Standards

1. Procurement Standards

For State and local governments, the Institute has adopted the standards set forth in Attachment O of OMB Circular A-102. Institutions of higher education, hospitals, and other non-profit organizations will be governed by the standards set forth in Attachment O of OMB Circular A-110.

2. Property Management Standards

The property management standards as prescribed in Attachment N of OMB Circulars A-102 and A-110 apply to all Institute grantees and subgrantees except as provided in section IX.A.18. All grantees/subgrantees are required to be prudent in the acquisition and management of property with grant funds. If suitable property required for the successful execution of projects is already available within the grantee or subgrantee organization, expenditures of grant funds for the acquisition of new property will be considered unnecessary.

K. Audit Requirements

1. Implementation

Each recipient of a grant from the Institute other than a scholarship, technical assistance grant, or judicial branch education technical assistance grant, must provide for an annual fiscal audit. This requirement also applies to a State or local court receiving a subgrant from the State Supreme Court. The audit may be of the entire grantee or subgrantee organization or of the specific project funded by the Institute. Audits conducted in accordance with the Single Audit Act of 1984 and OMB Circular A-128, or OMB Circular A-133, will satisfy the requirement for an annual fiscal audit. The audit must be conducted by an independent Certified Public Accountant, or a State or local agency authorized to audit government agencies. Grantees must send two copies of the audit report to the Institute. Grantees that receive funds from a Federal agency and satisfy audit requirements of the cognizant Federal agency must submit two copies of the audit report prepared for that Federal agency to the Institute in order to satisfy the provisions of this section.

2. Resolution and Clearance of Audit Reports

Timely action on recommendations by responsible management officials is an integral part of the effectiveness of an audit. Each grantee must have policies and procedures for acting on audit recommendations by designating officials responsible for: Follow-up; maintaining a record of the actions taken on recommendations and time schedules; responding to and acting on audit recommendations; and submitting periodic reports to the Institute on recommendations and actions taken.

3. Consequences of Non-Resolution of Audit Issues

Ordinarily, the Institute will not make a new grant award to an applicant that has an unresolved audit report involving Institute awards. Failure of the grantee to resolve audit questions may also result in the suspension or termination of payments for active Institute grants to that organization.

L. Close-Out of Grants

1. Grantee Close-Out Requirements

Within 90 days after the end date of the grant or any approved extension thereof (see section X.L.2. below), the following documents must be submitted to the Institute by grantees (other than scholarship recipients):

a. Financial Status Report. The final report of expenditures must have no unliquidated obligations and must indicate the exact balance of unobligated funds. Any unobligated/unexpended funds will be deobligated from the award by the Institute. Final payment requests for obligations incurred during the award period must be submitted to the Institute prior to the end of the 90-day close-out period. Grantees on a check-issued basis, who have drawn down funds in excess of their obligations/expenditures, must return any unused funds as soon as it is determined that the funds are not required. In no case should any unused funds remain with the grantee beyond the submission date of the final Financial Status Report.

b. Final Progress Report. This report should describe the project activities during the final calendar quarter of the project and the close-out period, including to whom project products have been disseminated; provide a summary of activities during the entire project; specify whether all the objectives set forth in the approved application or an approved adjustment have been met and, if any of the objectives have not been met, explain why not; and discuss what, if anything, could have been done differently that might have enhanced the impact of the project or improved its operation.

These reporting requirements apply at the conclusion of any non-scholarship grant, even when the project will continue under a continuation or ongoing support grant.

2. Extension of Close-out Period

Upon the written request of the grantee, the Institute may extend the close-out period to assure completion of the grantee's close-out requirements. Requests for an extension must be submitted at least 14 days before the end of the close-out period and must explain why the extension is necessary and what steps will be taken to assure that all the grantee's responsibilities will be met by the end of the extension period.

XI. Grant Adjustments

All requests for programmatic or budgetary adjustments requiring Institute approval must be submitted in a timely manner (ordinarily 30 days prior to the implementation of the adjustment being requested) by the project director. All requests for changes from the approved application will be carefully reviewed for both consistency with this Guideline and the enhancement of grant goals and objectives.

A. Grant Adjustments Requiring Prior Written Approval

There are several types of grant adjustments that require the prior written approval of the Institute. Examples of these adjustments include:

1. Budget revisions among direct cost categories that (i) transfer grant funds to an unbudgeted cost category or (ii) individually or cumulatively exceed five percent of the approved original budget or the most recently approved revised budget. See section X.I.2.d.

For continuation and ongoing support grants, funds from the original award may be used during the new grant period and funds awarded through a continuation or ongoing support grant may be used to cover project-related expenditures incurred during the original award period, with the prior written approval of the Institute.

2. A change in the scope of work to be performed or the objectives of the project (see D. below in this section).

3. A change in the project site.

4. A change in the project period, such as an extension of the grant period and/or extension of the final financial or progress report deadline (see E. below).

5. Satisfaction of special conditions, if required.

6. A change in or temporary absence of the project director (see F. and G. below).

7. The assignment of an employee or consultant to a key staff position whose qualifications were not described in the application, or a change of a person assigned to a key project staff position (see section IX.A.2.).

8. A change in or temporary absence of the person responsible for managing and reporting on the grant's finances.

9. A change in the name of the grantee organization.

10. A transfer or contracting out of grant-supported activities (see H. below).

11. A transfer of the grant to another recipient.

12. Preagreement costs (see section X.I.2.a.).

13. The purchase of automated data processing equipment and software (see section X.I.2.b.).

14. Consultant rates (see section X.I.2.c.).

15. A change in the nature or number of the products to be prepared or the manner in which a product would be distributed.

B. Requests for Grant Adjustments

All grantees must promptly notify their SJI program managers, in writing, of events or proposed changes that may require adjustments to the approved project design. In requesting an adjustment, the grantee must set forth the reasons and basis for the proposed adjustment and any other information the program manager determines would help the Institute's review.

C. Notification of Approval/Disapproval

If the request is approved, the grantee will be sent a Grant Adjustment signed by the Executive Director or his designee. If the request is denied, the grantee will be sent a written explanation of the reasons for the denial.

D. Changes in the Scope of the Grant

Major changes in scope, duration, training methodology, or other significant areas must be approved in advance by the Institute. A grantee may make minor changes in methodology, approach, or other aspects of the grant to expedite achievement of the grant's objectives with subsequent notification of the SJI program manager.

E. Date Changes

A request to change or extend the grant period must be made at least 30 days in advance of the end date of the grant. A revised task plan should accompany a request for a no-cost extension of the grant period, along with a revised budget if shifts among budget categories will be needed. A request to change or extend the deadline for the final financial report or final progress report must be made at least 14 days in advance of the report deadline (see section X.L.2.).

F. Temporary Absence of the Project Director

Whenever an absence of the project director is expected to exceed a continuous period of one month, the plans for the conduct of the project director's duties during such absence must be approved in advance by the Institute. This information must be provided in a letter signed by an authorized representative of the grantee/subgrantee at least 30 days before the departure of the project director, or as soon as it is known that the project director will be absent. The grant may be terminated if arrangements are not approved in advance by the Institute.

G. Withdrawal of/Change in Project Director

If the project director relinquishes or expects to relinquish active direction of the project, the Institute must be notified immediately. In such cases, if the grantee/subgrantee wishes to terminate the project, the Institute will forward procedural instructions upon notification of such intent. If the grantee wishes to continue the project under the direction of another individual, a statement of the candidate's qualifications should be sent to the Institute for review and approval. The grant may be terminated if the qualifications of the proposed individual are not approved in advance by the Institute.

H. Transferring or Contracting Out of Grant-Supported Activities

No principal activity of a grant-supported project may be transferred or contracted out to another organization without specific prior approval by the Institute. All such arrangements must be formalized in a contract or other written agreement between the parties involved. Copies of the proposed contract or agreement must be submitted for prior approval of the Institute at the earliest possible time. The contract or agreement must state, at a minimum, the activities to be performed, the time schedule, the policies and procedures to be followed, the dollar limitation of the agreement, and the cost principles to be followed in determining what costs, both direct and indirect, will be allowed. The contract or other written agreement must not affect the grantee's overall responsibility for the direction of the project and accountability to the Institute.

State Justice Institute Board of Directors

Robert A. Miller, Chairman, Chief Justice (ret.), Supreme Court of South Dakota, Pierre, SD

Joseph F. Baca, Vice-Chairman, Justice, New Mexico Supreme Court, Santa Fe, NM

Sandra A. O'Connor, Secretary, States Attorney of Baltimore County, Towson, MD

Keith McNamara, Esq., Executive Committee Member, McNamara & McNamara, Columbus, OH

Terrence B. Adamson, Esq., Executive Vice-President, The National Geographic Society, Washington, D.C.

Robert N. Baldwin, State Court Administrator, Supreme Court of Virginia, Richmond, VA

Carlos R. Garza, Esq., Administrative Judge (ret.), Austin, TX

Sophia H. Hall, Administrative Presiding Judge, Circuit Court of Cook County, Chicago, IL

Tommy Jewell, Presiding Children's Court Judge, Albuquerque, NM

Arthur A. McGiverin, Chief Justice (ret.), Supreme Court of Iowa, Ottumwa, IA

Florence K. Murray, Justice (ret.), Supreme Court of Rhode Island, Providence, RI

David I. Tevelin, Executive Director (ex officio)

David I. Tevelin,
Executive Director.

Appendix A—Recommendations to Grant Writers

Over the past 15 years, the Institute staff has reviewed approximately 4,000 concept papers and 1,750 applications. On the basis of those reviews, inquiries from applicants, and the views of the Board, the Institute offers the following recommendations to help potential applicants present workable, understandable proposals that can meet the funding criteria set forth in this Guideline.

The Institute suggests that applicants make certain that they address the questions and issues set forth below when preparing a concept paper or application. Concept papers and applications should, however, be presented in the formats specified in sections VI. and VII. of the Guideline, respectively.

1. What is the subject or problem you wish to address?

Describe the subject or problem and how it affects the courts and the public. Discuss how your approach will improve the situation or advance the state of the art or knowledge, and explain why it is the most appropriate approach to take. When statistics or research findings are cited to support a statement or position, the source of the citation should be referenced in a footnote or a reference list.

2. What do you want to do?

Explain the goal(s) of the project in simple, straightforward terms. The goals should describe the intended consequences or expected overall effect of the proposed project (e.g., to enable judges to sentence drug-abusing offenders more effectively, or to dispose of civil cases within 24 months), rather than the tasks or activities to be conducted (e.g., hold 3 training sessions, or install a new computer system).

To the greatest extent possible, an applicant should avoid a specialized vocabulary that is not readily understood by the general public. Technical jargon does not enhance a paper, nor does a clever but uninformative title.

3. How will you do it?

Describe the methodology carefully so that what you propose to do and how you would do it are clear. All proposed tasks should be set forth so that a reviewer can see a logical progression of tasks, and relate those tasks directly to the accomplishment of the project's goal(s). When in doubt about whether to provide a more detailed explanation or to assume a particular level of knowledge or expertise on the part of the reviewers, provide the additional information. A description of project tasks also will help identify necessary budget items. All staff positions and project costs should relate directly to the tasks described. The Institute encourages applicants to attach letters of cooperation and support from the courts and related agencies that will be involved in or directly affected by the proposed project.

4. How will you know it works?

Include an evaluation component that will determine whether the proposed training, procedure, service, or technology accomplished the objectives it was designed to meet. Concept papers and applications should present the criteria that will be used to evaluate the project's effectiveness; identify program elements that will require further modification; and describe how the evaluation will be conducted, when it will occur during the project period, who will conduct it, and what specific measures will be used. In most instances, the evaluation should be conducted by persons not connected with the implementation of the procedure, training, service, or technique, or the administration of the project.

The Institute has also prepared a more thorough list of recommendations to grant writers regarding the development of project evaluation plans. Those recommendations are available from the Institute upon request.

5. How will others find out about it?

Include a plan to disseminate the results of the training, research, or demonstration beyond the jurisdictions and individuals directly affected by the project. The plan should identify the specific methods which will be used to inform the field about the project, such as the publication of law review or journal articles, or the distribution of key materials. A statement that a report or research findings “will be made available to” the field is not sufficient. The specific means of distribution or dissemination as well as the types of recipients should be identified. Reproduction and dissemination costs are allowable budget items.

6. What are the specific costs involved?

The budget in both concept papers and applications should be presented clearly. Major budget categories such as personnel, benefits, travel, supplies, equipment, and indirect costs should be identified separately. The components of “Other” or “Miscellaneous” items should be specified in the application budget narrative, and should not include set-asides for undefined contingencies.

7. What, if any, match is being offered?

Courts and other units of State and local government (not including publicly-supported institutions of higher education) are required by the State Justice Institute Act to contribute a match (cash, non-cash, or both) of at least 50 percent of the grant funds requested from the Institute. All other applicants also are encouraged to provide a matching contribution to assist in meeting the costs of a project.

The match requirement works as follows: If, for example, the total cost of a project is anticipated to be $150,000, a State or local court or executive branch agency may request up to $100,000 from the Institute to implement the project. The remaining $50,000 (50% of the $100,000 requested from SJI) must be provided as match.

Cash match includes funds directly contributed to the project by the applicant, or by other public or private sources. It does not include income generated from tuition fees or the sale of project products. Non-cash match refers to in-kind contributions by the applicant, or other public or private sources. This includes, for example, the monetary value of time contributed by existing personnel or members of an advisory committee (but not the time spent by participants in an educational program attending program sessions). When match is offered, the nature of the match (cash or in-kind) should be explained and, at the application stage, the tasks and line items for which costs will be covered wholly or in part by match should be specified.

8. Which of the two budget forms should be used?

Section VII.A.1.c. of the SJI Grant Guideline encourages use of the spreadsheet format of Form C1 if the application requests $100,000 or more. Form C1 also works well for projects with discrete tasks, regardless of the dollar value of the project. Form C, the tabular format, is preferred for projects lacking a number of discrete tasks, or for projects requiring less than $100,000 of Institute funding. Generally, use the form that best lends itself to representing most accurately the budget estimates for the project.

9. How much detail should be included in the budget narrative?

The budget narrative of an application should provide the basis for computing all project-related costs, as indicated in section VII.A.4. of the Guideline. To avoid common shortcomings of application budget narratives, applicants should include the following information:

Personnel estimates that accurately provide the amount of time to be spent by personnel involved with the project and the total associated costs, including current salaries for the designated personnel (e.g., Project Director, 50% for one year, annual salary of $50,000 = $25,000). If salary costs are computed using an hourly or daily rate, the annual salary and number of hours or days in a work-year should be shown.

Estimates for supplies and expenses supported by a complete description of the supplies to be used, the nature and extent of printing to be done, anticipated telephone charges, and other common expenditures, with the basis for computing the estimates included (e.g., 100 reports x 75 pages each x .05/page = $375.00). Supply and expense estimates offered simply as “based on experience” are not sufficient.

In order to expedite Institute review of the budget, make a final comparison of the amounts listed in the budget narrative with those listed on the budget form. In the rush to complete all parts of the application on time, there may be many last-minute changes; unfortunately, when there are discrepancies between the budget narrative and the budget form or the amount listed on the application cover sheet, it is not possible for the Institute to verify the amount of the request. A final check of the numbers on the form against those in the narrative will preclude such confusion.

10. What travel regulations apply to the budget estimates?

Transportation costs and per diem rates must comply with the policies of the applicant organization, and a copy of the applicant's travel policy should be submitted as an appendix to the application. If the applicant does not have a travel policy established in writing, then travel rates must be consistent with those established by the Institute or the Federal Government (a copy of the Institute's travel policy is available upon request). The budget narrative should state which policies apply to the project.

The budget narrative also should include the estimated fare, the number of persons traveling, the number of trips to be taken, and the length of stay. The estimated costs of travel, lodging, ground transportation, and other subsistence should be listed and explained separately. It is preferable for the budget to be based on the actual costs of traveling to and from the project or meeting sites. If the points of origin or destination are not known at the time the budget is prepared, an average airfare may be used to estimate the travel costs. For example, if it is anticipated that a project advisory committee will include members from around the country, a reasonable airfare from a central point to the meeting site, or the average of airfares from each coast to the meeting site, may be used. Applicants should arrange travel so as to be able to take advantage of advanced-purchase price discounts whenever possible.

11. May grant funds be used to purchase equipment?

Generally, grant funds may be used to purchase only the equipment that is necessary to demonstrate a new technological application in a court, or that is otherwise essential to accomplishing the objectives of the project. The budget narrative must list the equipment to be purchased and explain why the equipment is necessary to the success of the project. The Institute's written prior approval is required when the amount of computer hardware to be purchased or leased exceeds $10,000, or the software to be purchased exceeds $3,000.

12. To what extent may indirect costs be included in the budget estimates?

If an indirect cost rate has been approved by a Federal agency within the last two years, an indirect cost recovery estimate may be included in the budget. A copy of the approved rate agreement should be submitted as an appendix to the application.

If an applicant does not have an approved rate agreement and cannot budget directly for all costs, an indirect cost rate proposal should be prepared in accordance with section X.I.4. of the Guideline, based on the applicant's audited financial statements for the prior fiscal year. (Applicants lacking an audit should budget all project costs directly.)

13. What meeting costs may be covered with grant funds?

SJI grant funds may cover the reasonable cost of meeting rooms, necessary audio-visual equipment, meeting supplies, and working meals.

14. Does the budget truly reflect all costs required to complete the project?

After preparing the program narrative portion of the application, applicants may find it helpful to list all the major tasks or activities required by the proposed project, including the preparation of products, and note the individual expenses, including personnel time, related to each. This will help to ensure that, for all tasks described in the application (e.g., development of a videotape, research site visits, distribution of a final report), the related costs appear in the budget and are explained correctly in the budget narrative.

Appendix B—Questions Frequently Asked by Grantees

The Institute's staff works with grantees to help assure the smooth operation of the project and compliance with the Guideline. On the basis of monitoring more than 1,500 grants, the Institute staff offers the following suggestions to aid grantees in meeting the administrative and substantive requirements of their grants.

1. After the grant has been awarded, when are the first quarterly reports due?

Quarterly Progress Reports and Financial Status Reports must be submitted within 30 days after the end of every calendar quarter—i.e., no later than January 30, April 30, July 30, and October 30—regardless of the project's start date. The reporting periods covered by each quarterly report end 30 days before the respective deadline for the report. When an award period begins December 1, for example, the first quarterly progress report describing project activities between December 1 and December 31 will be due on January 30. A Financial Status Report should be submitted even if funds have not been obligated or expended.

By documenting what has happened over the past three months, quarterly progress reports provide an opportunity for project staff and Institute staff to resolve any questions before they become problems, and make any necessary changes in the project time schedule, budget allocations, etc. The quarterly progress report should describe project activities, their relationship to the approved timeline, and any problems encountered and how they were resolved, and outline the tasks scheduled for the coming quarter. It is helpful to attach copies of relevant memos, draft products, or other requested information. An original and one copy of a quarterly progress report and attachments should be submitted to the Institute.

Additional quarterly progress report or Financial Status Report forms may be obtained from the grantee's Program Manager at SJI, or photocopies may be made from the supply received with the award.

2. Do reporting requirements differ for continuation and ongoing support grants?

Recipients of continuation or ongoing support grants are required to submit quarterly progress and Financial Status Reports on the same schedule and with the same information as recipients of grants for single new projects.

A continuation grant and each yearly grant under an ongoing support award should be considered as a separate phase of the project. The reports should be numbered on a grant rather than project basis. Thus, the first quarterly report filed under a continuation grant or a yearly increment of an ongoing support award should be designated as number one, the second as number two, and so on, through the final progress and Financial Status Reports due within 90 days after the end of the grant period.

3. What information about project activities should be communicated to SJI?

In general, grantees should provide prior notice of critical project events such as advisory board meetings or training sessions so that the Institute Program Manager can attend, if possible. If methodological, schedule, staff, budget allocations, or other significant changes become necessary, the grantee should contact the Program Manager prior to implementing any of these changes, so that possible questions may be addressed in advance. Questions concerning the financial requirements, quarterly financial reporting, or payment requests should be addressed to the Institute's Grants Financial Manager listed in the award letter.

It is helpful to include the grant number assigned to the award on all correspondence to the Institute.

4. Why are special conditions attached to the award document?

Special conditions may be imposed to establish a schedule for reporting certain key information, assure that the Institute has an opportunity to offer suggestions at critical stages of the project, and provide reminders of some (but not necessarily all) of the requirements contained in the Grant Guideline. Accordingly, it is important for grantees to check the special conditions carefully and discuss with their Program Managers any questions or problems they may have with the conditions. Most concerns about timing, response time, and the level of detail required can be resolved in advance through a telephone conversation. The Institute's primary concern is to work with grantees to assure that their projects accomplish their objectives, not to enforce rigid bureaucratic requirements. However, if a grantee fails to comply with a special condition or with other grant requirements, the Institute may, after proper notice, suspend payment of grant funds or terminate the grant.

Sections IX., X., and XI. of the Grant Guideline contain the Institute's administrative and financial requirements. Institute Finance Division staff are always available to answer questions and provide assistance regarding these provisions.

5. What is a Grant Adjustment?

A Grant Adjustment is the Institute's form for acknowledging the satisfaction of special conditions, or approving changes in grant activities, schedule, staffing, sites, or budget allocations requested by the project director. It also may be used to correct errors in grant documents or deobligate funds from the grant.

6. What schedule should be followed in submitting requests for reimbursements or advance payments?

Requests for reimbursements or advance payments may be made at any time after the project start date and before the end of the 90-day close-out period. However, the Institute follows the U.S. Treasury's policy limiting advances to the minimum amount required to meet immediate cash needs. Given normal processing time, grantees should not seek to draw down funds for periods greater than 30 days from the date of the request.

7. Do procedures for submitting requests for reimbursement or advance payment differ for continuation or ongoing support grants?

The basic procedures are the same for any grant. A continuation grant or the yearly grant under an ongoing support award should be considered as a separate phase of the project. Payment requests should be numbered on a grant rather than a project basis. The first request for funds from a continuation grant or a yearly increment under an ongoing support award should be designated as number one, the second as number two, and so on through the final payment request for that grant.

8. If things change during the grant period, can funds be reallocated from one budget category to another?

The Institute recognizes that some flexibility is required in implementing a project design and budget. Thus, grantees may shift funds among direct cost budget categories. When any one reallocation or the cumulative total of reallocations is expected to allocate funds to a previously unbudgeted cost category or to exceed five percent of the approved project budget, a grantee must specify the proposed changes, explain the reasons for the changes, and request prior Institute approval.

The same standard applies to continuation and ongoing support grants. In addition, prior written Institute approval is required to shift leftover funds from the original award to cover activities to be conducted under the renewal award, or to use renewal grant monies to cover costs incurred during the original grant period.

9. What is the 90-day close-out period?

Following the last day of the grant, a 90-day period is provided to allow for all grant-related bills to be received and posted, and grant funds drawn down to cover these expenses. No obligations of grant funds may be incurred during this period. The last day on which an expenditure of grant funds can be obligated is the end date of the grant period. Similarly, the 90-day period is not intended as an opportunity to finish and disseminate grant products. This should occur before the end of the grant period.

During the 90 days following the end of the award period, all monies that have been obligated should be expended. All payment requests must be received by the end of the 90-day “close-out-period.” Any unexpended monies held by the grantee that remain after the 90-day follow-up period must be returned to the Institute. Any funds remaining in the grant that have not been drawn down by the grantee will be deobligated.

10. Are funds granted by SJI “Federal” funds?

The State Justice Institute Act provides that, except for purposes unrelated to this question, “the Institute shall not be considered a department, agency, or instrumentality of the Federal Government.” 42 U.S.C.10704(c)(1). Because SJI receives appropriations from Congress, some grantee auditors have reported SJI grant funds as “Other Federal Assistance.” This classification is acceptable to SJI but is not required.

11. If SJI is not a Federal Agency, do OMB circulars apply with respect to audits?

Unless they are inconsistent with the express provisions of the SJI Grant Guideline, Office of Management and Budget (OMB) Circulars A-110, A-21, A-87, A-88, A-102, A-122, A-128, and A-133 are incorporated into the Grant Guideline by reference. Because the Institute's enabling legislation specifically requires the Institute to “conduct, or require each recipient to provide for, an annual fiscal audit” (see 42 U.S.C. 10711(c)(1)), the Grant Guideline sets forth options for grantees to comply with this statutory requirement. (See Section X.K.)

SJI will accept audits conducted in accordance with the Single Audit Act of 1984 and OMB Circulars A-128 or A-133 to satisfy the annual fiscal audit requirement. Grantees that are required to undertake these audits in conjunction with Federal grants may include SJI funds as part of the audit even if the receipt of SJI funds would not require such audits. This approach gives grantees an option to fold SJI funds into the governmental audit rather than to undertake a separate audit to satisfy SJI's Guideline requirements.

In sum, educational and nonprofit organizations that receive payments from the Institute that are sufficient to meet the applicability thresholds of OMB Circular A-133 must have their annual audit conducted in accordance with Government Auditing Standards issued by the Comptroller General of the United States rather than with generally accepted auditing standards. Grantees in this category that receive amounts below the minimum threshold referenced in Circular A-133 must also submit an annual audit to SJI, but they would have the option to conduct an audit of the entire grantee organization in accordance with generally accepted auditing standards; include SJI funds in an audit of Federal funds conducted in accordance with the Single Audit Act of 1984 and OMB Circulars A-128 or A-133; or conduct an audit of only the SJI funds in accordance with generally accepted auditing standards. (See Guideline section X.K.) Circulars may be obtained from OMB by calling 202-395-3080 or visiting the OMB website at www.whitehouse.gov/OMB.

12. Does SJI have a CFDA number?

Auditors often request that a grantee provide the Institute's Catalog of Federal Domestic Assistance (CFDA) number for guidance in conducting an audit in accordance with Government Accounting Standards.

Because SJI is not a Federal agency, it has not been issued such a number, and there are no additional compliance tests to satisfy under the Institute's audit requirements beyond those of a standard governmental audit.

Moreover, because SJI is not a Federal agency, SJI funds should not be aggregated with Federal funds to determine if the applicability threshold of Circular A-133 has been reached. For example, if in fiscal year 1999 grantee “X” received $10,000 in Federal funds from a Department of Justice (DOJ) grant program and $20,000 in grant funds from SJI, the minimum A-133 threshold would not be met. The same distinction would preclude an auditor from considering the additional SJI funds in determining what Federal requirements apply to the DOJ funds.

Grantees who are required to satisfy either the Single Audit Act or OMB Circulars A-128 or A-133, and who include SJI grant funds in those audits, need to remember that because of its status as a private non-profit corporation, SJI is not on routing lists of cognizant Federal agencies. Therefore, the grantee needs to submit a copy of the audit report prepared for such a cognizant Federal agency directly to SJI. The Institute's audit requirements may be found in section X.K. of the Grant Guideline.

Appendix C

List of State Contacts Regarding Administration of Institute Grants to State and Local Courts

Mr. Rich Hobson

Administrative Director of the Courts

Administrative Office of the Courts

300 Dexter Avenue

Montgomery, AL 36104

(334) 242-0825

Ms. Stephanie J. Cole

Administrative Director of the Courts

Alaska Court System

303 K Street

Anchorage, AK 99501

(907) 264-0547

Mr. Eliu F. Paopao

Court Administrator

High Court of American Samoa

P.O. Box 309

Pago Pago, AS 96799

011 (684) 633-1150

Mr. David K. Byers

Administrative Director of the Courts

Supreme Court of Arizona

1501 West Washington Street

Suite 411

Phoenix, AZ 85007

(602) 542-9301

Mr. James D. Gingerich

Director

Administrative Office of the Courts

Supreme Court of Arkansas

Justice Building

Little Rock, AR 72201

(501) 682-9400

Mr. William C. Vickrey

State Court Administrator

Administrative Office of the Courts

455 Golden Gate Avenue

San Francisco, CA 94102

(415) 865-4235

Honorable Gerald (Jerry) A. Marroney

State Court Administrator

Office of the State Court Administrator

Colorado Judicial Department

1301 Pennsylvania Street

Suite 300

Denver, CO 80203

(303) 837-3668

Honorable Joseph H. Pellegrino

Chief Court Administrator

Supreme Court of Connecticut

231 Capitol Avenue

Hartford, CT 06106

(860) 757-2100

Dennis B. Jones

State Court Administrator

Administrative Office of the Courts

820 N. French Street, 11th Floor

Wilmington, DE 19801

(302) 577-8271

Ms. Anne B. Wicks

Executive Officer

District of Columbia Courts

500 Indiana Avenue, N.W., Suite 1500

Washington, D.C. 20001

(202) 879-1700

State Courts Administrator

Florida Supreme Court Building

500 South Duval Street

Tallahassee, FL 32399-1900

(850) 922-5081

Mr. David L. Ratley

Director

Administrative Office of the Courts

244 Washington Street, S.W., Suite 300

Atlanta, GA 30334

(404) 656-5171

Mr. Daniel J. Tydingco

Executive Officer

Supreme Court of Guam

Guam Judicial Center

120 West O'Brien Drive

Hagatna, Guam 96910-5174 011 (671) 475-3278

Mr. Michael F. Broderick

Administrative Director of the Courts

The Judiciary, State of Hawaii

417 S. King Street, Room 206

Honolulu, HI 96813

(808) 539-4900

Ms. Patricia Tobias

Administrative Director of the Courts

Supreme Court Building

451 West State Street (Zip Code 83702)

Post Office Box 83720

Boise, ID 83720-0101

(208) 334-2246

Mr. Joseph A. Schillaci

Director

Administrative Office of the Illinois Courts

222 N. LaSalle Street, 13th Floor

Chicago, IL 60601

(312) 793-3250

Ms. Lilia G. Judson

Executive Director

Division of State Court Administration

Indiana Supreme Court

115 W. Washington, Suite 1080

Indianapolis, IN 46204-3417

(317) 232-2542

Mr. William J. O'Brien

State Court Administrator

Supreme Court of Iowa

State House

Des Moines, IA 50319

(515) 281-5241

Dr. Howard P. Schwartz

Judicial Administrator

Kansas Judicial Center

301 S.W. Tenth Street

Topeka, KS 66612

(785) 296-4873

Ms. Cicely Jaracz Lambert

Director

Administrative Office of the Courts

100 Millcreek Park

Frankfort, KY 40601

(502) 573-2350

Dr. Hugh M. Collins

Judicial Administrator

Supreme Court of Louisiana

1555 Poydras Street, Suite 1540

New Orleans, LA 70112-3701

(504) 568-5747

Mr. James T. Glessner

State Court Administrator

Administrative Office of the Courts

P.O. Box 4820

62 Elm Street

Portland, ME 04112-4820

(207) 822-0792

Mr. Frank Broccolina

State Court Administrator

Administrative Office of the Courts

Maryland Judicial Center

580 Taylor Avenue

Annapolis, MD 21401

(410) 260-1290

Honorable Barbara A. Dortch-Okara

Chief Justice for Administration and Management

Administrative Office of the Trial Courts

Two Center Plaza, Fifth Floor, Room 540

Boston, MA 02108

(617) 742-8575

Mr. John D. Ferry, Jr.

State Court Administrator

State Court Administrative Office

309 N. Washington Square

P.O. Box 30048

Lansing, MI 48909

(517) 373-2222

Ms. Sue K. Dosal

State Court Administrator

Supreme Court of Minnesota

135 Minnesota Judicial Center

25 Constitution Avenue

St. Paul, MN 55155

(651) 296-2474

Mr. Stephen J. Kirchmayr

Director

Administrative Office of the Courts

450 High Street

4th Floor, Gartin Building (Zip Code 39201)

P.O. Box 117

Jackson, MS 39205-0117

(601) 359-3697

Mr. Michael L. Buenger

State Court Administrator

Supreme Court of Missouri

P.O. Box 104480

Jefferson City, MO 65110

(573) 751-4377

Ms. Lisa D. Smith

Acting Supreme Court Administrator

Supreme Court of Montana

215 North Sanders, Room 315

Post Office Box 203002

Helena, MT 59620

(406) 444-2621

Mr. Joseph C. Steele

State Court Administrator

Administrative Office of the Courts/Probation

State Capitol Building, Room 1220

Post Office Box 98910

Lincoln, NE 68509-8910

(404) 471-3730

Ms. Karen Kavanau

State Court Administrator

Administrative Office of the Courts

Supreme Court Building

201 South Carson Street, Suite 250

Carson City, NV 89701-4702

(775) 684-1717

Mr. Donald Goodnow

Director

Administrative Office of the Courts

Two Noble Drive

Concord, NH 03301

(603) 271-2521

Honorable Richard J. Williams

Administrative Director

Administrative Office of the Courts

Post Office Box 037 RJH Justice Complex

25 Market Street

Trenton, NJ 08625

(609) 292-1747

Mr. Michael Hall

Interim Director

Administrative Office of the Courts

237 Don Gaspar, Room 25

Sante Fe, NM 87501-2178

(505) 827-4800

Honorable Jonathan Lippman

Chief Administrative Judge

New York State Unified Court System

Office of Court Administration

25 Beaver Street

New York, NY 10004

(212) 428-2100

Honorable Robert Hobgood

Director

North Carolina Administrative Office of the Courts

2 East Morgan Street (Zip Code 27601)

Post Office Box 2448

Raleigh, NC 27602

(919) 733-7107

Mr. Keithe E. Nelson

State Court Administrator

Supreme Court of North Dakota

State Capitol Building

600 East Boulevard Avenue, Dept. 180

Bismarck, ND 58505-0530

(701) 328-4216

Ms. Margarita M. Palacios

Director of Courts

Supreme Court of the Commonwealth of the Northern Mariana Islands

Guma Hustisia, First Floor

Susupe, Saipan, MP 96950

P.O. Box 502165

Saipan, MP 96950

(670) 236-9807

Mr. Steven C. Hollon

Administrative Director

Supreme Court of Ohio

State Office Tower

30 East Broad Street

Columbus, OH 43266-0419

(614) 466-2653

Mr. Howard W. Conyers

Administrative Director of the Courts

1925 N. Stiles, Suite 305

Oklahoma City, OK 73105

(405) 521-2450

Ms. Kingsley W. Click

State Court Administrator

Office of the State Court Administrator

Supreme Court Building

Salem, OR 97301-2563

(503) 986-5500

Mr. Zygmont A. Pines

Court Administrator

Administrative Office of Pennsylvania Courts

Supreme Court of Pennsylvania

1515 Market Street, Suite 1414

Philadelphia, PA 19102

(215) 560-6337

Ms. Mercedes M. Bauermeister

Administrative Director of the Courts

General Court of Justice

Office of Court Administration

6 Vela Street, Hato Rey

Post Office Box 190917

San Juan, PR 00919-0917

(787) 641-6623

Mr. John Barrette

State Court Administrator

Supreme Court of Rhode Island

250 Benefit Street

Providence, RI 02903

(401) 222-3263

Ms. Rosalyn Woodson Frierson

Director

South Carolina Court Administration

1015 Sumter Street, Suite 200

Columbia, SC 29201

(803) 734-1800

Mr. D. J. Hanson

State Court Administrator

Unified Judicial System

500 East Capitol Avenue

Pierre, SD 57501-5070

(605) 773-3474

Ms. Cornelia A. Clark

Director

Administrative Office of the Courts

Tennessee Supreme Court

511 Union Street, Suite 600

Nashville, TN 37219

(615) 741-2687

Mr. Jerry L. Benedict

Director

Office of Court Administration

Tom C. Clark State Courts Building

Post Office Box 12066 (Zip Code 78711-2066)

205 West 14th Street, Suite 600

Austin, TX 78701

(512) 463-1625

Mr. Daniel Becker

State Court Administrator

450 South State

Post Office Box 140241

Salt Lake City, UT 84114-0241

(801) 578-3806

Mr. Lee Suskin

Court Administrator

Supreme Court of Vermont

109 State Street

Montpelier, VT 05609-0701

(802) 828-3278

Ms. Glenda L. Lake

Territorial Court of the Virgin Islands

Alexander A. Farrelly Justice Center

P.O. Box 70

Charlotte Amalie

St. Thomas, VI 00804

(340) 774-6680

Mr. Robert N. Baldwin

State Court Administrator

Supreme Court of Virginia

100 North Ninth Street, 3rd Floor

Richmond, VA 23219

(804) 786-6455

Ms. Mary Campbell McQueen

State Court Administrator

Supreme Court of Washington

Temple of Justice

P.O. Box 41174

Olympia, WA 98504-1174

(360) 357-2120

Ms. Barbara H. Allen

Administrative Director

West Virginia Supreme Court of Appeals

Building 1, Room E-100

State Capitol

1900 Kanawha Boulevard East

Charleston, WV 25305

(304) 558-0145

Mr. J. Denis Moran

Director of State Courts

119 Martin Luther King Jr. Blvd., Room LL2 (Zip Code 53703)

P.O. Box 1688

Madison, WI 53701-1688b

(608) 266-6828

Ms. Holly A. Hansen

State Court Administrator

Supreme Court of Wyoming

Supreme Court Building

2301 Capital Avenue

Cheyenne, WY 82002

(307) 777-7480

Appendix D

SJI Libraries: Designated Sites and Contacts

Alabama

Supreme Court Library

Mr. Timothy A. Lewis

State Law Librarian

Alabama Supreme Court Bldg.

300 Dexter Avenue

Montgomery, AL 36104

(334) 242-4347

Alaska

Anchorage Law Library

Ms. Cynthia S. Fellows

State Law Librarian

Alaska Court Libraries

820 W. Fourth Ave.

Anchorage, AK 99501

(907) 264-0583

Arizona

State Law Library

Ms. Gladys Ann Wells

Collection Development, Research Division

Arizona Dept. of Library,

Archives and Public Records

State Law Library

1501 W. Washington

Phoenix, AZ 85007

(602) 542-4035

Arkansas

Administrative Office of the Courts

Mr. James D. Gingerich

Director

Administrative Office of the Courts

Supreme Court of Arkansas

Justice Building

Little Rock, AR 72201

(501) 682-9400

California

Administrative Office of the Courts

Mr. William C. Vickrey

Administrative Director of the Courts

Administrative Office of the Courts

455 Golden Gate Avenue

San Francisco, CA 94107

(415) 865-4200

Colorado

Supreme Court Library

Ms. Lois Calvert

Supreme Court Law Librarian

Colorado State Judicial Building

2 East 14th Avenue

Denver, CO 80203

(303) 837-3720

Connecticut

State Library

Ms. Denise D. Jernigan

State Librarian

Connecticut State Library 231 Capital Avenue

Hartford, CT 06106

(860) 566-2516

Delaware

Administrative Office of the Courts

Mr. Michael E. McLaughlin

Deputy Director

Administrative Office of the Courts

Carvel State Office Building

820 North French Street

11th Floor

P.O. Box 8911

Wilmington, DE 19801

(302) 577-8481

District of Columbia

Executive Office, District of Columbia Courts

Ms. Anne B. Wicks

Executive Officer

District of Columbia Courts

500 Indiana Avenue, N.W., Suite 1500

Washington, D.C. 20001

(202) 879-1700

Florida

Administrative Office of the Courts

Ms. Dee Beranek

Deputy State Courts Administrator

Florida Supreme Court Building

500 South Duval Street

Tallahassee, FL 32399-1900

(850) 922-5081

Georgia

Administrative Office of the Courts

Mr. David Ratley

Director

Administrative Office of the Courts

47 Trinity Avenue, Suite 414

Atlanta, GA 30334

(404) 656-5171

Hawaii

Supreme Court Library

Ms. Ann Koto

State Law Librarian

The Supreme Court Law Library

417 South King St., Room 119

Honolulu, HI 96813

(808) 539-4965

Idaho

AOC Judicial Education Library/State Law Library

Ms. Beth Peterson

State Law Librarian

Idaho State Law Library

Supreme Court Building

451 West State St.

Boise, ID 83720

(208) 334-3316

Illinois

Supreme Court Library

Ms. Brenda Larison

Supreme Court of Illinois Library

200 East Capitol Avenue

Springfield, IL 62701-1791

(217) 782-2425

Indiana

Supreme Court Library

Mr. Dennis Lager

Supreme Court Librarian

Supreme Court Library

State House, Room 316

Indianapolis, IN 46204

(317) 232-2557

Iowa

Administrative Office of the Court

Dr. Jerry K. Beatty

Executive Director

Judicial Education & Planning

Office of the State Court Administrator

State Capital Building

Des Moines, IA 50319-0001

(515) 281-8279

Kansas

Supreme Court Library

Mr. Fred Knecht

Law Librarian

Kansas Supreme Court Library

301 West 10th Street

Topeka, KS 66612

(913) 296-3257

Kentucky

State Law Library

Ms. Marge Jones

State Law Librarian

State Law Library

State Capital, Room 200-A

Frankfort, KY 40601

(502) 564-4848

Louisiana

State Law Library

Ms. Carol Billings

Director

Louisiana Law Library

301 Loyola Avenue

New Orleans, LA 70112

(504) 568-5705

Maine

State Law and Legislative Reference Library

Ms. Lynn E. Randall

State Law Librarian

43 State House Station

Augusta, ME 04333

(207) 287-1600

Maryland

State Law Library

Mr. Michael S. Miller

Director

Maryland State Law Library

Court of Appeal Building

361 Rowe Boulevard

Annapolis, MD 21401

(410) 260-1430

Massachusetts

Middlesex Law Library

Ms. Sandra Lindheimer

Librarian

Middlesex Law Library

Superior Court House

40 Thorndike Street

Cambridge, MA 02141

(617) 494-4148

Michigan

Michigan Judicial Institute

Mr. Kevin Bowling

Director

Michigan Judicial Institute

222 Washington Square North

P.O. Box 30205

Lansing, MI 48909

(517) 334-7805

Minnesota

State Law Library (Minnesota Judicial Center)

Mr. Marvin R. Anderson

State Law Librarian

Supreme Court of Minnesota

25 Constitution Avenue

St. Paul, MN 55155

(612) 297-2084

Mississippi

Mississippi Judicial College

Mr. Leslie Johnson

Director

University of Mississippi

P.O. Box 8850

University, MS 38677

(601) 232-5955

Montana

State Law Library

Ms. Judith Meadows

State Law Librarian

State Law Library of Montana

215 North Sanders

Helena, MT 59620

(406) 444-3660

Nebraska

Administrative Office of the Courts

Mr. Joseph C. Steele

State Court Administrator

Administrative Office of the Courts/Probation

State Capitol Building, Room 1220

Post Office Box 98910

Lincoln, NE 68509-8910

(402) 471-3730

Nevada

National Judicial College

Mr. Randall Snyder

Law Librarian

National Judicial College

Judicial College Building

University of Nevada

Reno, NV 89550

(775) 784-6747

New Hampshire

New Hampshire Law Library

Ms. Christine Swan

Law Librarian

New Hampshire Law Library

Supreme Court Building

One Noble Drive

Concord, NH 03301-6160

(603) 271-3777

New Jersey

New Jersey State Library

Ms. Marjorie Garwig

Supervising Law Librarian

New Jersey State Law Library

185 West State Street

P.O. Box 520

Trenton, NJ 08625-0250

(609) 292-6230

New Mexico

Supreme Court Library

Mr. Thaddeus Bejnar

Librarian

Supreme Court Library

Post Office Drawer L

Santa Fe, NM 87504

(505) 827-4850

New York

Supreme Court Library

Ms. Colleen Stella

Principal Law Librarian

New York State Supreme Court Law Library

Onondaga County Court House

401 Montgomery Street

Syracuse, NY 13202

(315) 435-2063

North Carolina

Supreme Court Library

Mr. Thomas P. Davis

Librarian

North Carolina Supreme Court Library

P.O. Box 28006

2 East Morgan Street

Raleigh, NC 27601

(919) 733-3425

North Dakota

Supreme Court Library

Ms. Marcella Kramer

Assistant Law Librarian

Supreme Court Law Library

600 East Boulevard Avenue, Dept. 182

2nd Floor, Judicial Wing

Bismarck, ND 58505-0540

(701) 328-2229

Northern Mariana Islands

Supreme Court of the Northern Mariana Islands

Honorable Miguel Sablan Demapan

Chief Justice

Supreme Court of the Commonwealth of the Northern Mariana Islands

P.O. Box 2165 CK

Saipan, MP 96950

(670) 236-9700

Ohio

Supreme Court Library

Mr. Paul S. Fu

Law Librarian

Supreme Court Law Library

Supreme Court of Ohio

30 East Broad Street

Columbus, OH 43266-0419

(614) 466-2044

Oklahoma

Administrative Office of the Courts

Mr. Howard W. Conyers

Administrative Director of the Courts

1915 North Stiles, Suite 305

Oklahoma City, OK 73105

(405) 521-2450

Oregon

Administrative Office of the Courts

Ms. Kingsley W. Click

State Court Administrator

Office of the State Court Administrator

Supreme Court Building

Salem, OR 97310

(503) 986-5900

Pennsylvania

State Library of Pennsylvania

Ms. Kathy Hale

State Justice Depository

State Library of Pennsylvania

Collection Management

Room G-48 Forum Building

P.O. Box 1601

Harrisburg, PA 17105-1601

(717) 787-5718

Puerto Rico

Office of Court Administration

Alfredo Rivera-Mendoza, Esq.

Director, Area of Planning and Management

Office of Court Administration

P.O. Box 917

Hato Rey, PR 00919

Rhode Island

Roger Williams University

Ms. Gail Winson

Director of the Library

Roger Williams University

School of Law Library

10 Metacom Avenue

Bristol, RI 02809

South Carolina

Coleman Karesh Law Library (University of South Carolina School of Law)

Mr. Steve Hinckley

Library Director

Coleman Karesh Law Library

U. S. C. Law Center

University of South Carolina

Columbia, SC 29208

(803) 777-5944

South Dakota

State Law Library

Librarian

500 East Capitol

Pierre, South Dakota 57501

(605) 773-4898

Tennessee

Tennessee State Law Library

Honorable Cornelia A. Clark

Director

Administrative Office of the Courts

Tennessee Supreme Court

511 Union

Nashville, TN 37243-0607

(615) 741-2687

Texas

State Law Library

Ms. Kay Schleuter

Director, State Law Library

P.O. Box 12367

Austin, TX 78711

(512) 463-1722

U.S. Virgin Islands

Library of the Territorial Court of the Virgin Islands (St. Thomas)

Ms. Glenda L. Lake

Court Administrator

Territorial Court of the Virgin Islands

Post Office Box 70

Charlotte Amalie, St. Thomas

U.S. Virgin Islands 00804

Utah

Utah State Judicial Administration Library

Ms. Debbie Christiansen

Utah State Judicial Administration Library

Administrative Office of the Courts

450 South State

P.O. Box 140241

Salt Lake City, UT 84114-0241

(801) 533-6371

Vermont

Supreme Court of Vermont

Mr. Paul J. Donovan

Law Librarian

Department of Libraries

109 State Street

Montpelier, VT 05609

(802) 828-3278

Virginia

Administrative Office of the Courts

Mr. Robert N. Baldwin

State Court Administrator

Supreme Court of Virginia

100 North Ninth Street, 3rd Floor

Richmond, VA 23219

(804) 786-6455

Washington

Washington State Law Library

Ms. Deborah Norwood

State Law Librarian

Washington State Law Library

Temple of Justice

P.O. Box 40751

Olympia, WA 98504-0751

(360) 357-2136

West Virginia

Administrative Office of the Courts

Law Librarian

West Virginia Supreme Court of Appeals

State Capitol

1900 Kanawha Boulevard East

Building 1, Room E-100

Charleston, WV 25305

(304) 558-2607

Wisconsin

State Law Library

Ms. Jane Colwin

Director of Public Services

State Law Library

310 E. State Capitol

P.O. Box 7881

Madison, WI 53707

(608) 261-2340

Wyoming

Wyoming State Law Library

Ms. Kathleen B. Carlson

Law Librarian

Wyoming State Law Library

Supreme Court Building

2301 Capitol Avenue

Cheyenne, WY 82002

(307) 777-7509

NATIONAL

American Judicature Society

Ms. Clara Wells

Assistant for Information and Library Services

180 North Michigan Avenue, #600

Chicago, IL 60601

(312) 558-6900

National Center for State Courts

Ms. Peggy Rogers

Acquisitions/Serials Librarian

300 Newport Avenue

Williamsburg, VA 23187-8798

(757) 259-1857

JERITT

Dr. Maureen E. Conner

Executive Director

The JERITT Project

1407 S. Harrison

Suite 330 Nisbet

East Lansing, MI 48823-5239

(517) 353-8603

(517) 432-3965 (fax)

e-mail: connerm@msu.edu

website: http://jeritt.msu.edu

Appendix E—Illustrative List of Technical Assistance Grants

The following list presents examples of the types of technical assistance for which State and local courts can request Institute funding. Please check with the JERITT project (517/353-8603 or jeritt@msu.edu for information about other SJI-supported technical assistance projects.

Application of Technology

Technology Plan (Office of the South Dakota State Court Administrator: SJI-99-066)

Children and Families in Court

Expanded Unified Family Court (Ventura County, CA, Superior Court: SJI-01-122)

Trial Court Performance Standards for the Unified Family Court of Delaware (Family Court of Delaware: SJI-98-205)

Court Planning, Management, and Financing

Job Classification and Pay Study of the New Hampshire Courts (New Hampshire Administrative Office of the Courts: SJI-98-011)

A Model for Building and Institutionalizing Judicial Branch Strategic Planning (12th Judicial Circuit, Sarasota, FL: SJI-98-266)

Strategic Planning (Fourth Judicial District Court, Hennepin County, MN: SJI-99-221)

Differentiated Case Management for the Improvement of Civil Case Processing in the Trial Courts of Texas (Texas Office of Court Administration: SJI-99-222)

Dispute Resolution and the Courts

Evaluating the New Mexico Court of Appeals Mediation Program (New Mexico Supreme Court: SJI-00-122)

Improving Public Confidence in the Courts

Mississippi Task Force on Gender Fairness in the Courts (Mississippi Administrative Office of the Courts: SJI-00-108)

Analysis of the Juror Debriefing Project (King County, WA, Superior Court: SJI-00-049)

Improving the Court's Response to Family Violence

New Hampshire Fatality Reviews (New Hampshire Administrative Office of the Courts: SJI-99-142)

Education and Training for Judges and Other Court Personnel

Iowa Supreme Court Advisory Committee on Judicial Branch Education (Iowa State Court Administrator's Office: SJI-01-200)

Appendix F—Illustrative List of Model Curricula

The following list includes examples of model SJI-supported curricula that State judicial educators may wish to adapt for presentation in education programs for judges and other court personnel with the assistance of a Judicial Branch Education Technical Assistance Grant. Please refer to section VII.E. for information on submitting a letter application for a Judicial Branch Education Technical Assistance Grant. A list of all SJI-supported education projects is available on the SJI web site (http://www.statejustice.org). Please also check with the JERITT project (517/353-8603 or http://jeritt.msu.edu) and your State SJI-designated library (see Appendix D) for information on other SJI-supported curricula that may be appropriate for in-State adaptation.

Alternative Dispute Resolution

Judicial Settlement Manual (National Judicial College: SJI-89-089)

Improving the Quality of Dispute Resolution (Ohio State University College of Law: SJI-93-277)

Comprehensive ADR Curriculum for Judges (American Bar Association: SJI-95-002)

Domestic Violence and Custody Mediation (American Bar Association: SJI-96-038)

Court Coordination

Bankruptcy Issues for State Trial Court Judges (American Bankruptcy Institute: SJI-91-027)

Intermediate Sanctions Handbook: Experiences and Tools for Policymakers (Center for Effective Public Policy: IAA-88-NIC-001)

Regional Conference Cookbook: A Practical Guide to Planning and Presenting a Regional Conference on State-Federal Judicial Relationships (U.S. Court of Appeals for the 9th Circuit: SJI-92-087)

Bankruptcy Issues and Domestic Relations Cases (American Bankruptcy Institute: SJI-96-175)

Court Management

Managing Trials Effectively: A Program for State Trial Judges (National Center for State Courts/National Judicial College: SJI-87-066/067, SJI-89-054/055, SJI-91-025/026)

Caseflow Management Principles and Practices (Institute for Court Manage-ment/National Center for State Courts: SJI-87-056)

A Manual for Workshops on Processing Felony Dispositions in Limited Jurisdiction Courts (National Center for State Courts: SJI-90-052)

Managerial Budgeting in the Courts; Performance Appraisal in the Courts; Managing Change in the Courts; Court Automation Design; Case Management for Trial Judges; Trial Court Performance Standards (Institute for Court Management/National Center for State Courts: SJI-91-043)

Strengthening Rural Courts of Limited Jurisdiction and Team Training for Judges and Clerks (Rural Justice Center: SJI-90-014, SJI-91-082)

Interbranch Relations Workshop (Ohio Judicial Conference: SJI-92-079)

Integrating Trial Management and Caseflow Management (Justice Management Institute: SJI-93-214)

Leading Organizational Change (California Administrative Office of the Courts: SJI-94-068)

Privacy Issues in Computerized Court Record Keeping: An Instructional Guide for Judges and Judicial Educators (National Judicial College: SJI-94-015)

Managing Mass Tort Cases (National Judicial College: SJI-94-141)

Employment Responsibilities of State Court Judges (National Judicial College: SJI-95-025)

Caseflow Management; Resources, Budget, and Finance; Visioning and Strategic Planning; Leadership; Purposes and Responsibilities of Courts; Information Management Technology; Human Resources Management; Education, Training, and Development; Public Information and the Media from “NACM Core Competency Curriculum Guidelines” (National Association for Court Management: SJI-96-148)

Dealing with the Common Law Courts: A Model Curriculum for Judges and Court Staff (Institute for Court Management/ National Center for State Courts: SJI-96-159)

Caseflow Management from “Innovative Educational Programs for Judges and Court Managers” (Justice Management Institute: SJI-98-041)

Courts and Communities

Reporting on the Courts and the Law (American Judicature Society: SJI-88-014)

Victim Rights and the Judiciary: A Training and Implementation Project (National Organization for Victim Assistance: SJI-89-083)

National Guardianship Monitoring Project: Trainer and Trainee's Manual (American Association of Retired Persons: SJI-91-013)

Access to Justice: The Impartial Jury and the Justice System and When Implementing the Court-Related Needs of Older People and Persons with Disabilities: An Instructional Guide (National Judicial College: SJI-91-054)

You Are the Court System: A Focus on Customer Service (Alaska Court System: SJI-94-048)

Serving the Public: A Curriculum for Court Employees (American Judicature Society: SJI-96-040)

Courts and Their Communities: Local Planning and the Renewal of Public Trust and Confidence: A California Statewide Conference (California Administrative Office of the Courts: SJI-98-008)

Charting the Course of Public Trust and Confidence in Our Courts (Mid-Atlantic Association for Court Management: SJI-98-208)

Trial Court Judicial Leadership Program: Judges and Court Administrators Serving the Courts and Community (National Center for State Courts: SJI-98-268)

Public Trust and Confidence (Arizona Courts Association: SJI-99-063)

Criminal Process

Search Warrants: A Curriculum Guide for Magistrates (American Bar Association Criminal Justice Section: SJI-88-035)

Diversity, Values, and Attitudes

Troubled Families, Troubled Judges (Brandeis University: SJI-89-071)

The Crucial Nature of Attitudes and Values in Judicial Education (National Council of Juvenile and Family Court Judges: SJI-90-058)

Enhancing Diversity in the Court and Community (Institute for Court Management/National Center for State Courts: SJI-91-043)

Cultural Diversity Awareness in Nebraska Courts from Native American Alternatives to Incarceration Project (Nebraska Urban Indian Health Coalition: SJI-93-028)

Race Fairness and Cultural Awareness Faculty Development Workshop (National Judicial College: SJI-93-063)

A Videotape Training Program in Ethics and Professional Conduct for Nonjudicial Court Personnel and The Ethics Fieldbook: Tool For Trainers (American Judicature Society: SJI-93-068)

Court Interpreter Training Course for Spanish Interpreters (International Institute of Buffalo: SJI-93-075)

Doing Justice: Improving Equality Before the Law Through Literature-Based Seminars for Judges and Court Personnel (Brandeis University: SJI-94-019)

Multi-Cultural Training for Judges and Court Personnel (St. Petersburg Junior College: SJI-95-006)

Ethical Standards for Judicial Settlement: Developing a Judicial Education Module (American Judicature Society: SJI-95-082)

Code of Ethics for the Court Employees of California (California Administrative Office of the Courts: SJI 95-245)

Workplace Sexual Harassment Awareness and Prevention (California Administrative Office of the Courts: SJI 96-089)

Just Us On Justice: A Dialogue on Diversity Issues Facing Virginia Courts (Virginia Supreme Court: SJI-96-150)

When Bias Compounds: Insuring Equal Treatment for Women of Color in the Courts (National Judicial Education Program: SJI 96-161)

When Judges Speak Up: Ethics, the Public, and the Media (American Judicature Society: SJI-96-152)

Family Violence and Gender-Related Violent Crime

National Judicial Response to Domestic Violence: Civil and Criminal Curricula (Family Violence Prevention Fund: SJI-87-061, SJI-89-070, SJI-91-055).

Domestic Violence: A Curriculum for Rural Courts (Rural Justice Center: SJI-88-081)

Judicial Training Materials on Spousal Support; Judicial Training Materials on Child Custody and Visitation (Women Judges' Fund for Justice: SJI-89-062)

Understanding Sexual Violence: The Judicial Response to Stranger and Nonstranger Rape and Sexual Assault (National Judicial Education Program: SJI-92-003, SJI-98-133 [video curriculum])

Domestic Violence & Children: Resolving Custody and Visitation Disputes (Family Violence Prevention Fund: SJI-93-255)

Adjudicating Allegations of Child Sexual Abuse When Custody Is In Dispute (National Judicial Education Program: SJI 95-019)

Handling Cases of Elder Abuse: Interdisciplinary Curricula for Judges and Court Staff (American Bar Association: SJI-93-274)

Health and Science

Environmental Law Resource Handbook (University of New Mexico Institute for Public Law: SJI-92-162)

A Judge's Deskbook on the Basic Philosophies and Methods of Science: Model Curriculum (University of Nevada, Reno: SJI-97-030)

Judicial Education for Appellate Court Judges

Career Writing Program for Appellate Judges (American Academy of Judicial Education: SJI-88-086)

Civil and Criminal Procedural Innovations for Appellate Courts (National Center for State Courts: SJI-94-002)

Judicial Branch Education: Faculty and Program Development

The Leadership Institute in Judicial Education and The Advanced Leadership Institute in Judicial Education (University of Memphis: SJI-91-021)

Faculty Development Instructional Program” from Curriculum Review (National Judicial College: SJI-91-039)

Resource Manual and Training for Judicial Education Mentors (National Association of State Judicial Educators: SJI-95-233)

Institute for Faculty Excellence in Judicial Education (National Council of Juvenile and Family Court Judges: SJI-96-042; University of Memphis: SJI-01-202)

Orientation, Mentoring, and Continuing Professional Education of Judges and Court Personnel

Legal Institute for Special and Limited Jurisdiction Judges (National Judicial College: SJI-89-043, SJI-91-040)

Pre-Bench Training for New Judges (American Judicature Society: SJI-90-028)

A Unified Orientation and Mentoring Program for New Judges of All Arizona Trial Courts (Arizona Supreme Court: SJI-90-078)

Court Organization and Structure (Institute for Court Management/National Center for State Courts: SJI-91-043)

Judicial Review of Administrative Agency Decisions (National Judicial College: SJI-91-080)

New Employee Orientation Facilitators Guide (Minnesota Supreme Court: SJI-92-155)

Magistrates Correspondence Course (Alaska Court System: SJI-92-156)

Computer-Assisted Instruction for Court Employees (Utah Administrative Office of the Courts: SJI-94-012)

Bench Trial Skills and Demeanor: An Interactive Manual (National Judicial College: SJI 94-058)

Ethical Issues in the Election of Judges (National Judicial College: SJI-94-142)

Caseflow Management; Resources, Budget, and Finance; Visioning and Strategic Planning; Leadership; Purposes and Responsibilities of Courts; Information Management Technology; Human Resources Management; Education, Training, and Development; Public Information and the Media from “NACM Core Competency Curriculum Guidelines” (National Association for Court Management: SJI-96-148)

Innovative Approaches to Improving Competencies of General Jurisdiction Judges (National Judicial College: SJI-98-001)

Caseflow Management from “Innovative Educational Programs for Judges and Court Managers” (Justice Management Institute: SJI-98-041

Juveniles and Families in Court

Fundamental Skills Training Curriculum for Juvenile Probation Officers (National Council of Juvenile and Family Court Judges: SJI-90-017)

Child Support Across State Lines: The Uniform Interstate Family Support Act from Uniform Interstate Family Support Act: Development and Delivery of a Judicial Training Curriculum (ABA Center on Children and the Law: SJI 94-321)

Juvenile Justice at the Crossroads: Literature-Based Seminars for Judges, Court Personnel, and Community Leaders (Brandeis University: SJI-99-150)

Strategic and Futures Planning

Minding the Courts into the Twentieth Century (Michigan Judicial Institute: SJI-89-029)

An Approach to Long-Range Strategic Planning in the Courts (Center for Public Policy Studies: SJI-91-045)

Substance Abuse

Effective Treatment for Drug-Involved Offenders: A Review & Synthesis for Judges and Court Personnel (Education Development Center, Inc.: SJI-90-051)

Good Times, Bad Times: Drugs, Youth, and the Judiciary (Professional Development and Training Center, Inc.: SJI-91-095)

Gaining Momentum: A Model Curriculum for Drug Courts (Florida Office of the State Courts Administrator: SJI-94-291)

Judicial Response to Substance Abuse: Children, Adolescents, and Families (National Council of Juvenile and Family Court Judges: SJI-95-030)

BILLING CODE 6820-SC-P

[FR Doc. 01-25081 Filed 10-9-01; 8:45 am]

BILLING CODE 6820-SC-C